DEPARTMENT OF TRANSPORTATION

Pipeline and Hazardous Materials Safety Administration

49 CFR Parts 191, 192, and 195

[Docket No. PHMSA-2020-0013; Amdt. Nos. 191-37, 192-156, 195-117]

RIN 2137-AF48

Pipeline Safety: Periodic Standards Update II

AGENCY: Pipeline and Hazardous Materials Safety Administration (PHMSA), Department of Transportation (DOT).

ACTION: Final rule.

SUMMARY: PHMSA is amending the Federal pipeline safety regulations to incorporate by reference all or parts of 19 updated industry standards. PHMSA is also clarifying certain regulatory provisions and making several editorial corrections.

DATES: The effective date of this final rule is January 10, 2026. The incorporation by reference of certain publications listed in the rule is approved by the Director of the Federal Register as of January 10, 2026.

FOR FURTHER INFORMATION CONTACT:

Technical Information: Rod Seeley by phone at 281-513-1741 or by email at Rodrick.M.Seeley@dot.gov.

Regulatory Information: Brianna Wilson by phone at 771-215-0969 or by email at Brianna.Wilson@dot.gov.

SUPPLEMENTARY INFORMATION:

I. Background

II. Notice of Proposed Rulemaking

III. Pipeline Advisory Committee Meetings

IV. Summary of Comments, GPAC/LPAC Discussion, and PHMSA Response

V. Summary of Final Rule

VI. Regulatory Analyses and Notices

I. Background

A. Purpose of This Rule

This final rule incorporates by reference 19 updated voluntary, consensus industry technical standards within the pipeline safety regulations (PSR, 49 Code of Federal Regulation (CFR) parts 190-199). The incorporation of these updated standards will maintain or improve public safety, prevent regulatory confusion, and reduce compliance burdens consistent with the requirements in the National Technology Transfer and Advancement Act (NTTAA) of 1995 (15 United States Code (U.S.C.) 272 (note)).

PHMSA incorporates more than 80 industry standards by reference into the PSRs. By updating these references on a periodic basis, PHMSA encourages innovation and technological development and reduces unnecessary compliance burdens.

PHMSA has determined that the updated standards adopted in this final rule will either maintain or enhance the protection of public safety. PHMSA has further concluded that the adoption of these standards is technically feasible, reasonable, cost-effective, and practicable, and that it produces benefits that justify any associated compliance costs.

B. History of Incorporation by Reference

The Office of Management and Budget (OMB) sets the policy for Federal use and development of voluntary, consensus industry technical standards in OMB Circular A-119 (“Federal Participation in the Development and Use of Voluntary Consensus Standards and in Conformity Assessment Activities”).¹ Material that is incorporated by reference (IBR) is treated as if it is published in full in the Federal Register and the PSRs. Therefore, like any other rule issued in the Federal Register, a voluntary, consensus industry technical standard that has been incorporated by reference has the full force and effect of the law. As specified in 1 CFR 51.1(c), the Director of the Federal Register has the authority to determine whether material that is proposed for IBR serves the public interest. If a provision of an incorporated standard conflicts with a regulation, the regulation takes precedence unless the regulation expressly provides otherwise.

¹ OMB, Circular No. A-119 (Feb. 10, 1998), available at: https://www.whitehouse.gov/wp-content/uploads/2017/11/Circular-119-1.pdf.

PHMSA has incorporated more than 80 industry standards by reference into the PSRs. The lists of publications incorporated into parts 191 (which regulates reporting), 192 (which regulates the transportation of gas by pipeline) and 195 (which regulates the transportation of hazardous liquids and carbon dioxide by pipeline) are found in §§ 192.7 and 195.3, respectively. Previous rules that incorporated updated industry standards by reference were published on May 24, 1996 (61 FR 26121); February 17, 1998 (63 FR 7721); June 14, 2004 (69 FR 32886); June 9, 2006 (71 FR 33402); February 1, 2007 (72 FR 4655 (correction)); August 11, 2010 (75 FR 48593); January 5, 2015 (80 FR 168); August 6, 2015 (80 FR 46847 (correction)), and April 29, 2024 (89 FR 33264).

The industry standards that are incorporated within the PSRs are developed or adopted by domestic and international standard-development organizations (SDOs). Approximately every two to five years, these organizations use agreed-upon procedures to update and revise their published standards to reflect the latest developments in technology, testing, and operational practices. New or updated industry standards often incorporate new technologies, materials, management practices, and other innovations that can improve the physical integrity, and the safe operation of pipeline facilities.

PHMSA employees participate in meetings held by 25 domestic SDOs that address the design, construction, maintenance, inspection, operation, and repair of pipeline facilities. PHMSA's subject-matter experts represent PHMSA in all dealings with the SDOs; participate in discussions and technical debates; register opinions; and vote in accordance with the procedures of the SDOs at each stage of the standards-development process (unless prohibited from doing so by law). PHMSA participates in this process to ensure its safety priorities are considered, and to avoid the need to develop separate, government-unique standards.

PHMSA also regularly reviews updated editions of currently referenced industry standards and amends the PSR to incorporate partially or fully updated standards. These updates ensure that the PSRs incorporate and facilitate the use of the latest technologies, materials, management and operational practices, testing, and other innovations. The adoption of more recent editions of industry standards also prevents conflicts between the standards referenced in the PSRs and updated versions of the same standards with which operators and suppliers may voluntarily comply, thereby (1) avoiding the confusion and expense associated with ensuring compliance with competing versions of the same standard; and (2) improving compliance and allowing the allocation of more operator resources toward safety. PHMSA reviewed the updated standards discussed in this final rule and finds them appropriate for IBR within the PSR.

C. Availability of Materials to Interested Parties

Pursuant to section 24 of the Pipeline Safety, Regulatory Certainty, and Job Creation Act of 2011 (Pub. L. 112-90, 49 U.S.C. 60102(p), as amended), “the Secretary may not issue a regulation pursuant to this chapter that incorporates any documents or portions thereof unless the documents or portions thereof are made available to the public, free of charge.” Most of the updated standards incorporated by reference in this final rule can be viewed online for free.

The standards incorporated by reference in this final rule are reasonably available to interested parties in several ways. First, PHMSA has negotiated agreements to make viewable copies of the standards available to the public at no cost with all but two of the SDOs whose updated standards are incorporated by reference in this final rule. The organizations that agreed to the public access requirements of the statutory mandate discussed above are: the American Petroleum Institute (API), the American Gas Association (AGA), ASTM International (formerly the American Society for Testing and Materials), the Gas Technology Institute (GTI), the Manufacturers Standardization Society of the Valve and Fittings Industry, Inc. (MSS), the Association for Materials Protection and Performance (AMPP) (formerly NACE International), the National Fire Protection Association (NFPA), and the Plastics Pipe Institute (PPI).² The standards can be accessed through the websites listed below.

² ASTM updates some of its more widely used standards every year, and sometimes SDOs publish multiple editions of a standard in a given year. NACE International and the Society for Protective Coatings merged to form AMPP, which is why NACE standards are listed under AMPP.

The API standards identified in Section V.A. are available from the following website: https://publications.api.org/IBR-Documents-Under-Consideration.aspx.

The ASTM standards identified in Section V.E. are available from the following website: https://www.astm.org/products-services/reading-room.html.

The AMPP: NACE standards identified in Section V.D. are available from the following website: https://ibr.ansi.org/Standards/nace.aspx.

Finally, the NFPA standard identified in Section V.F. is available from the following website: https://www.nfpa.org/Codes-and-Standards/All-Codes-and-Standards/List-of-Codes-and-Standards.

As of the date of publication of this final rule, PHMSA was not able to reach a general agreement with the American Society of Mechanical Engineers (ASME) to make the standards readily available online as ASME heavily relies on the revenue the standards generate.³ PHMSA was also unable to reach a general agreement with The American Society for Nondestructive Testing (ASNT). Individuals and organizations may access the ASME and ASNT standards incorporated by reference in this final rule, as well as any other standard in this final rule that is not otherwise available from the relevant SDO, by contacting the PHMSA standards library at the following email address: phmsaphpstandards@dot.gov. Such requests should include a phone number, physical address, and an email address.

³ GPAC/LPAC meeting discussions routinely raise concerns regarding the availability of ASME standards. See, e.g., Joint Gas and Liquid Pipeline Advisory Committee Meeting Transcript, Docket No. PHMSA-2021-0069-0005 at 86:2-11, (Oct. 21, 2021) (Joint GPAC/LPAC Transcript). The committees have recommended repeatedly that PHMSA work with the pipeline advisory committees and other pipeline safety representatives to establish an agreement with ASME and ASNT to provide viewable copies of the standards incorporated by reference in the PSR permanently available on the internet for free to the general public. PHMSA has attempted to do so without success to date.

Finally, the material can also reasonably be obtained by interested parties through the applicable publisher contact information listed §§ 192.7 and 195.3 of the amendatory text in this document. Additional information regarding standards availability can be found at https://www.phmsa.dot.gov/standards-rulemaking/pipeline/standards-incorporated-reference.

II. Notice of Proposed Rulemaking

On August 29, 2022, PHMSA published a notice of proposed rulemaking (NPRM) to incorporate by reference all or parts of more than 20 updated industry standards and to make editorial corrections to certain regulations.⁴ With respect to each proposed industry standard the NPRM (1) described the provisions within the PSR in which it is incorporated by reference; (2) described how each such standard contributed to pipeline safety; and (3) described if the standard was an update to a standard that was previously incorporated by reference into the PSR, any material changes between the previous version of that industry standard, and the updated version proposed for incorporation in the PSR. PHMSA requested comment from the public, state pipeline safety regulators, and other stakeholders, and considered on those comments in developing this final rule.

⁴ PHMSA, “Pipeline Safety: Periodic Standards Update II,” 87 FR 52713 (Aug. 29, 2022) (NPRM).

III. Pipeline Advisory Committee Meetings

On January 16, 2025, PHMSA discussed the NPRM with the Technical Pipeline Safety Standards Committee (TPSSC) (also known as the Gas Pipeline Advisory Committee (GPAC)), and the Technical Hazardous Liquid Pipeline Safety Standards Committee (THLPSSC) (also known as the Liquid Pipeline Advisory Committee (LPAC)). The GPAC and LPAC are statutorily mandated Federal advisory committees that, respectively, advise PHMSA on proposed safety standards for gas and hazardous liquid and carbon dioxide pipeline facilities and any associated risk assessments.⁵ The GPAC and LPAC are comprised of equal representation from the government, industry, and the general public. The members of both committees assessed all standards proposed for incorporation in the NPRM and provided recommendations that PHMSA considered adopting this final rule.

⁵ PHMSA established these committees in accordance with FACA (5 U.S.C. App. 2, as amended) and its implementing regulations: 41 CFR parts 101-6, Department of Transportation (DOT) Order 1120.3C, and 49 U.S.C. 60115. The committees consist of 15 members with membership evenly distributed between Federal and State governments, the regulated industry, and the general public. The committees advise PHMSA on the technical feasibility, reasonableness, cost-effectiveness, and practicability of proposed pipeline safety standards.

A transcript of the GPAC and LPAC meeting and all presented materials is available both in the docket for the rulemaking and on the web page that PHMSA created for the meeting.⁶ Additional information regarding the GPAC and LPAC recommendations on the NPRM may be found in section IV below.

⁶ PHMSA, “Gas Pipeline Advisory Committee (GPAC) and Liquid Pipeline Advisory Committee (LPAC) Meeting Transcript” (Jan. 16, 2025), https://primis-meetings.phmsa.dot.gov/meetings/8e15d35d-aa51-4d3b-b469-69cf858aa097.

IV. Summary of Comments, GPAC/LPAC Discussion, and PHMSA Response

PHMSA received nine comments on the NPRM from the following individuals and organizations: the American Fuel & Petrochemical Manufacturers (AFPM), Association for Materials Protection & Performance (AMPP), the American Petroleum Institute (API), an anonymous commenter, David Rudolph, Dresser Utility Solutions, Joe Schmo, a joint comment from “the Associations” (Interstate Natural Gas Association of America (INGAA), American Gas Association (AGA), American Public Gas Association (APGA), API, GPA Midstream Association, and Plastic Pipe Institute (PPI)), and National Fire Protection Association (NFPA).

PHMSA below discusses comments received from stakeholders (in written comments or during the GPAC/LPAC meeting) on a handful of specific industry standards and editorial and technical corrections proposed by the NPRM for incorporation in the PSRs. In addition to discussing those specific comments, PHMSA incorporates by reference within this final rule its discussion of the proposals in the NPRM—including but not limited to, its description in the NPRM of the content of any updated standards and corrections, and the safety benefits anticipated from those amendments.

A. Stakeholder Comments and GPAC/LPAC Discussion

PHMSA received comments that generally were supportive of the proposals in the NPRM. API questioned PHMSA's failure to include the adoption of API Recommended Practice (RP) 1162, Public Awareness Programs for Pipeline Operators, Third Edition, in the NPRM. At the joint GPAC/LPAC meeting, an LPAC industry committee member also asked PHMSA to consider incorporating API RP 1162 by reference. A public PAC member took the opposite view and expressed support for PHMSA's decision to not incorporate the newer edition of that standard. PHMSA will consider action on this RP in a future rulemaking.

Both the GPAC and LPAC discussions and voting broadly were supportive of the proposed amendments in the NPRM. The GPAC unanimously voted to endorse each of the proposed IBR updates and miscellaneous amendments within parts 191 and 192 as “technically feasible, reasonable, cost-effective, and practicable”. The GPAC also called on PHMSA to continue to work towards an agreement with ASME to make its standards available for free on the internet to the public.

The LPAC voted to endorse, with only two dissenting votes, the proposed IBR updates and miscellaneous amendments to part 195 as “technically feasible, reasonable, cost-effective, and practicable.” Two public committee members explained those dissenting votes by referring to concerns about the public availability of ASME standards, rather than by offering substantive objections to the proposals in the NPRM. Like the GPAC, these two members called on PHMSA to continue actively to pursue an agreement with ASME because of the importance of transparency between governing bodies and the general public. PHMSA will continue to work with ASME to reach an agreement for standards availability.

At the joint PAC meeting, a GPAC industry committee member encouraged PHMSA to consider an alternative effective date for standards update rulemakings, proposing January 1 as an implementation date or an alternative timeframe that allows operators adequate time to adjust their training and procedures. An LPAC industry member also suggested that PHMSA solicit comments from operators to gather input on time expectations for the implementation of standards. PHMSA agrees with these concerns and has set January 10, 2026, as the effective and compliance dates in the final rule to allow operators adequate implementation time.

B. API 1104

API 1104 is a welding standard that PHMSA incorporates by reference within the PSRs. PHMSA currently incorporates the 21st edition of API 1104. In the NPRM, PHMSA stated that incorporating the 22nd edition, which published in July 2021 and includes extensive changes and expanded requirements compared to its predecessors, would require additional resources and training for industry. PHMSA requested comments from stakeholders regarding the use of the 22nd edition of API 1104: Welding Pipelines and Related Facilities to develop welding procedures, as well as comments regarding implementation of the 22nd edition from the perspective of welders, welding inspectors, and engineers. PHMSA also solicited comments on any potential issues that could result from incorporating the 22nd edition. Finally, PHMSA requested comments regarding the potential incorporation of Section 10 of the 22nd edition of API Std 1104 and its impact on the PSRs; in particular, on §§ 192.245 and 195.230.

PHMSA received a comment from the Associations expressing support for the currently incorporated by reference 21st edition of API 1104 and raising concerns with incorporating sections 5, 6 and 10 of the 22nd edition.⁷ The Associations suggested that PHMSA assess potential impacts prior to proceeding with incorporating the 22nd edition.

⁷ Interstate Natural Gas Association, et al., Doc. No. PHMSA-2020-0013-0008, “Comments in Response to Periodic Standards Update II Notice” at 2-4 (Oct. 28, 2022).

During the GPAC and LPAC discussions, committee members expressed general support for the incorporation of API 1104, 22nd edition and encouraged PHMSA to update the standard in a future standards rulemaking. An LPAC public member cautioned that all updates are not necessarily improvements, noting existing issues with the 20th edition of API 1104. PHMSA will determine whether to incorporate the 22nd edition of API 1104 in the future after further review.

C. NFPA 30

NFPA 30 in an industry safety standard addressing the storage, handling, and use of flammable or combustible liquids, including waste liquids. In the NPRM, PHMSA proposed to update the edition of NFPA 30 that is incorporated by reference into the PSRs from the 2012 to the 2021 version. NFPA submitted comments in response to the NPRM, suggesting that PHMSA use the spelling of “ignitible” instead of “ignitable” and clarifying that NFPA did not revise its classification scheme (Class IA, IB, IC, II, IIIA, and IIIB) in the 2021 edition of NFPA 30 but, rather, made a nomenclature revision.⁸ NFPA provided language to clarify its nomenclature revision of replacing “combustible liquid” and “flammable liquid” with “ignitible (flammable and combustible) liquid”. PHMSA appreciates NFPA's clarifications and will consider whether to address those concerns in implementing guidance or a future rulemaking.

⁸ NFPA, Doc. No. PHMSA-2020-0013-0005, “Comments in Docket number PHMSA-2023-0013” (Oct. 19, 2022).

D. ASTM F1948

ASTM F1948 specifies requirements and test methods for the qualification of metallic mechanical fittings designed for use with outside-diameter-controlled thermoplastic gas distribution pipe and tubing. In the NPRM, PHMSA proposed to update the currently incorporated by reference version of ASTM F1948 from the 2012 to the 2020 edition. Dresser Pipeline Solutions (Dresser) submitted a comment in response to the NPRM and suggested that PHMSA delay the proposed update to allow ASTM to address Dresser's concerns with implementing the testing protocols in the 2020 edition.⁹ PHMSA appreciates Dresser's comments but does not intend to delay the update of ASTM F1948 as it understands Dresser's concern to be one that operators can navigate without great difficulty.

⁹ Dresser, Doc. No. PHMSA-2020-0013-0007, “Comments in Docket number PHMSA-2023-0013” (Oct. 28, 2022).

V. Summary of Final Rule

This final rule incorporates the following updated industry standards and amendments into the 49 CFR parts 192 and 195. Availability information for each standard is specified in Section I of this preamble, and a summary of each standard is detailed below and in Section II of the NPRM.

A. American Petroleum Institute

1. API Recommended Practice (RP) 652, “Linings of Aboveground Petroleum Storage Tank Bottoms,” 5th edition, May 2020.

API RP 652 provides acceptable methods for controlling corrosion in aboveground petroleum storage tanks with tank-bottom linings. It also contains information pertinent to lining application, surface preparation, curing, the selection of lining materials, and the inspection of tank-bottom linings for new and existing storage tanks.

[Replaces incorporated by reference (IBR): API Recommended Practice 652, Linings of Aboveground Petroleum Storage Tank Bottoms, 3rd Edition, October 2005; Referenced in 49 CFR 195.579(d)]

2. API RP 2003, “Protection Against Ignitions Arising out of Static, Lightning, and Stray Currents,” 8th Edition, September 2015, reaffirmed March 2020.

API RP 2003 reflects the current state of technology and knowledge (based on experimentation and practical experience) applicable to the prevention of hydrocarbon ignition in petroleum industry applications due to static electricity, lightning, and stray currents. The use of the principles in this RP should lead to improved safety practices and evaluations of existing installations and procedures.

[Replaces API RP 2003, “Protection against Ignitions Arising out of Static, Lightning, and Stray Currents,” 7th Edition, January 2008; Referenced in 49 CFR 195.405(a).]

3. API Specification (Spec) 12F, “Specification for Shop-welded Tanks for Storage of Production Liquids,” 13th Edition, January 2019.

API Spec 12F outlines design, fabrication, materials, and testing requirements for new, shop-fabricated, vertical, cylindrical, aboveground, welded-steel storage tanks that are designed according to the standard sizes and capacities for approximately atmospheric internal pressures. This specification is designed to provide the oil production industry with tanks for the storage of crude petroleum and other liquids.

[Replaces API Spec 12F, “Specification for Shop Welded Tanks for Storage of Production Liquids,” 12th Edition, October 2008, effective April 1, 2009; Referenced in 49 CFR 195.132(b), 195.205(b), 195.264(b), 195.264(e), 195.307(a), 195.565, 195.579(d).]

4. API 510, “Pressure Vessel Inspection Code: In-service Inspection, Rating, Repair, and Alteration,” 10th Edition, May 2014, including Addendum 1 (May 2017).

API 510 presents the current state of knowledge and technology applicable to the in-service alteration, inspection, repair, and rerating of steel pressure vessels, as well as the pressure-relieving devices that protect these vessels. This standard applies to all hydrocarbon and chemical process vessels.

[[Replaces API Std 510, “Pressure Vessel Inspection Code: In-Service Inspection, Rating, Repair, and Alteration,” 9th Edition, June 2006; Referenced in 49 CFR 195.205(b) and 195.432(c).]

5. API Standard (Std) 2510, “Design and Construction of LPG Installations,” 9th Edition, August 2020.

API Std 2510 presents the current state of knowledge and technology applicable to the design or construction of facilities that handle or store liquefied petroleum gas at marine or pipeline terminals, natural gas processing plants, petrochemical plants, refineries, and tank farms. This standard applies to storage vessels, loading and unloading systems, and piping.

[Replaces existing references to API Std 2510, “Design and Construction of LPG Installations,” 8th Edition, 2001; Referenced in 49 CFR 195.132(b); 195.205(b); 195.264(b), (e); 195.307(e); 195.428(c); and 195.432(c).]

B. American Society of Mechanical Engineers

1. ASME B16.40-2019, “Manually Operated Thermoplastic Gas Shutoffs and Valves in Gas Distribution Systems,” issued February 11, 2019.

ASME B16.40-2019 reflects the current state of knowledge and technology applicable to manually operated thermoplastic valves in nominal valve sizes of half an inch through 12 inches in diameter that are intended for use below the ground in thermoplastic fuel-gas distribution mains and service lines. The standard also sets qualification requirements for each basic valve design, as well as for newly manufactured valves.

[Replaces ASME B16.40-2008, “Manually Operated Thermoplastic Gas Shutoffs and Valves in Gas Distribution Systems,” March 18, 2008, approved by ANSI; Referenced in Section I of appendix B to Part 192].

2. ASME B31.4-2019, “Pipeline Transportation Systems for Liquids and Slurries: ASME Code for Pressure Piping, B31,” issued November 1, 2019.

ASME B31.4-2019 outlines requirements for liquid pipeline systems, liquid-transporting pipelines, and non-hazardous aqueous-slurry-transporting pipelines. This standard also outlines requirements for design, materials, construction, assembly, inspection, testing, operation, and maintenance.

[Replaces ASME B31.4-2006, “Pipeline Transportation Systems for Liquid Hydrocarbons and Other Liquids,” October 20, 2006; Referenced in 49 CFR 195.110(a).]

C. The American Society for Nondestructive Testing

1. ANSI/ASNT ILI-PQ-2017, “In-line Inspection Personnel Qualification and Certification,” 2017 Edition, approved December 12, 2017.

ANSI/ASNT ILI-PQ-2017 applies the current state of data and technology to the qualification and certification of in-line inspection (ILI) personnel whose jobs require specific knowledge of the technical principles of ILI technologies, operations, regulatory requirements, and industry standards that are applicable to pipeline systems.

[Replaces ANSI/ASNT ILI-PQ-2005(2010), “In-line Inspection Personnel Qualification and Certification,” Reapproved October 11, 2010; Referenced in 49 CFR 192.493 and 195.591.]

D. The Association for Materials Protection and Performance

1. ANSI/NACE SP0502-2010, Pipeline External Corrosion Direct Assessment Methodology, revised June 24, 2010.

ANSI/NACE SP0502-2010 covers the AMPP external corrosion direct assessment process for buried onshore ferrous pipeline systems. The standard serves as a guide for applying this process on pipeline systems.

2. NACE SP0102-2017, “In-Line Inspection of Pipelines,” March 10, 2017.

NACE SP0102-2017 is applicable to ILI of carbon-steel pipeline systems that are constructed of Grade B or greater material and are used to transport natural gas and hazardous liquids, including anhydrous ammonia, carbon dioxide, water (including brine), liquefied-petroleum gases, and other fluids that are not detrimental to the function or stability of ILI tools. NACE SP0102-2017 states that it applies the most current data and technology to carbon steel pipeline systems that transport hazardous liquids and/or natural gas in the vicinity of a right-of-way.

[Replaces NACE Standard Practice 0102-2010, “In-Line Inspection of Pipelines,” revised March 13, 2010; References 192.150(a); 192.493; 195.120; and 195.591.]

E. ASTM International

1. ASTM A372/A372M-20e1, “Standard Specification for Carbon and Alloy Steel Forgings for Thin-Walled Pressure Vessels,” approved March 1, 2020.

ASTM A372/A372M-20e1 presents the current state of knowledge and technology regarding the manufacture of relatively thin-walled forgings—including gas bottles—for use in pressure vessels. This specification covers carbon and alloy steel forgings.

[Replaces ASTM A372/A372M-10, “Standard Specification for Carbon and Alloy Steel Forgings for Thin-Walled Pressure Vessels,” approved October 1, 2010; References 49 CFR 192.177(b).]

2. ASTM A672/A672M-19, “Standard Specification for Electric-Fusion-Welded Steel Pipe for High-Pressure Service at Moderate Temperatures,” approved November 1, 2019.

ASTM A672/A672M-19 presents the current state of knowledge and technology regarding the manufacture of electric-fusion-welded pipe for use at moderate temperatures, including all temperatures for pipelines regulated by 49 CFR parts 192 and 195.

[Replaces ASTM A672/A672M-09, “Standard Specification for Electric-Fusion-Welded Steel Pipe for High-Pressure Service at Moderate Temperatures,” approved October 1, 2009; References 49 CFR 192.113 and 195.106(e) and appendix B to part 192.]

3. ASTM D2513-20, “Standard Specification for Polyethylene (PE) Gas Pressure Pipe, Tubing, and Fittings,” approved December 1, 2020.

ASTM D2513-20 presents the current state of knowledge and technology applicable to PE pipe, tubing, and fittings used for fuel gas pipelines, including pipe that is used to distribute natural gas.

[Replaces ASTM D2513-18a, “Standard Specification for Polyethylene (PE) Gas Pressure Pipe, Tubing, and Fittings,” approved August 1, 2018; References appendix B to part 192.]

4. ASTM D2564-20, “Standard Specification for Solvent Cements for Poly (Vinyl Chloride) (PVC) Plastic Piping Systems,” approved August 1, 2020.

ASTM D2564-20 presents the current requirements for solvent cements that are used to join PVC piping systems. It addresses the requirements in Specification D1784 regarding PVC pipe that was created from compounds and includes Practice D2855's procedure for joining PVC fittings and pipe.

[Replaces ASTM D2564-12, “Standard Specification for Solvent Cements for Poly (Vinyl Chloride) (PVC) Plastic Piping Systems,” August 1, 2012; References 49 CFR 192.281(b)(2).]

5. ASTM F1055-16a, “Standard Specification for Electrofusion Type Polyethylene Fittings for Outside Diameter Controlled Polyethylene and Crosslinked Polyethylene (PEX) Pipe and Tubing,” approved November 15, 2016.

ASTM F1055-16a presents the current state of knowledge and technology applicable to the use of electrofusion PE fittings with outside-diameter-controlled PE and PEX pipe. The standard also includes requirements for materials, workmanship, and performance testing of pertinent plastic piping.

[Replaces ASTM F1055-98 (Reapproved 2006), “Standard Specification for Electrofusion Type Polyethylene Fittings for Outside Diameter Controlled Polyethylene Pipe and Tubing,” March 1, 2006; References 49 CFR 192.283(a) and appendix B to part 192.]

6. ASTM F1924-19, “Standard Specification for Plastic Mechanical Fittings for Use on Outside Diameter Controlled Polyethylene Gas Distribution Pipe and Tubing,” approved August 1, 2019.

ASTM F1924-19 presents the current state of knowledge and technology applicable to requirements and test methods for the qualification of plastic-bodied mechanical fittings for use with outside-diameter-controlled PE gas-distribution pipe that is nominal 2 IPS and smaller and that complies with Specification ASTM D2513. The standard also specifies general requirements for the material from which such fittings are made.

[Replaces ASTM F1924-12, “Standard Specification for Plastic Mechanical Fittings for Use on Outside Diameter Controlled Polyethylene Gas Distribution Pipe and Tubing,” April 1, 2012; References appendix B to part 192.]

7. ASTM F1948-20, “Standard Specification for Metallic Mechanical Fittings for Use on Outside Diameter Controlled Thermoplastic Gas Distribution Pipe and Tubing,” approved February 1, 2020.

ASTM F1948-20 presents the current requirements and test methods for the qualification of metallic mechanical fittings that are designed to be used with outside-diameter-controlled thermoplastic gas distribution pipe and tubing, as specified in Specification D2513, F2785, or F2945.

[Replaces ASTM F1948-12, “Standard Specification for Metallic Mechanical Fittings for Use on Outside Diameter Controlled Thermoplastic Gas Distribution Pipe and Tubing,” April 1, 2012; appendix B in part 192.]

8. ASTM F2620-20ae2, “Standard Practice for Heat Fusion Joining of Polyethylene Pipe and Fittings,” approved December 1, 2020.

ASTM F2620-20ae2 presents the current state of knowledge and technology applicable to creating joints via heat-fusion joining of PE pipe and fittings in a variety of environments, including in the field.

[Replaces ASTM F2620-19, “Standard Practice for Heat Fusion Joining of Polyethylene Pipe and Fittings,” approved February 1, 2019; References 49 CFR 192.281(c) and 192.285(b).]

9. ASTM F2785-21, “Standard Specification for Polyamide 12 Gas Pressure Pipe, Tubing, and Fittings,” approved July 1, 2021.

ASTM F2785-21 presents the current requirements and test methods for the characterization of PA12 pipe, tubing, and fittings for use in fuel gas mains and services for direct burial and re-liner applications. This standard is intended for the distribution of natural gas.

[Replaces ASTM F2785-12, “Standard Specification for Polyamide 12 Gas Pressure Pipe, Tubing, and Fittings,” August 1, 2012; References appendix B to part 192.]

F. The National Fire Protection Association

1. NFPA 30, “Flammable and Combustible Liquids Code,” 2021 Edition, effective August 31, 2020.

NFPA 30 applies to the safe storage, handling, and use of flammable and combustible liquids.

[Replaces NFPA-30 (2012), “Flammable and Combustible Liquids Code,” 2012 Edition (June 20, 2011), Including Errata 30-12-1 (September 27, 2011) and Errata 30-12-2 (November 14, 2011); References 49 CFR 192.735(b) and 195.264(b).]

The final rule will not, however, update the following standards as proposed in the NPRM. PHMSA intends to update these standards in one or more separate rulemakings:

1. ASTM A578/A578M-17, “Standard Specification for Straight-Beam Ultrasonic Examination of Rolled Steel Plates for Special Applications,” November 1, 2017.

2. ASTM F1973-13(2018), “Standard Specification for Factory Assembled Anodeless Risers and Transition Fittings in Polyethylene (PE) and Polyamide 11 (PA11) and Polyamide 12 (PA12) Fuel Gas Distribution Systems,” February 1, 2018.

3. ASTM F2145-13(2018): Standard Specification for Polyamide 11 (PA 11) and Polyamide 12 (PA12) Mechanical Fittings for Use on Outside Diameter Controlled Polyamide 11 and Polyamide 12 Pipe and Tubing,” February 1, 2018.

4. ASTM F2600-09(2018), “Standard Specification for Electrofusion Type Polyamide-11 Fittings for Outside Diameter Controlled Polyamide-11 Pipe and Tubing,” February 1, 2018.

5. ASTM F2767-18, “Standard Specification for Electrofusion Type Polyamide-12 Fittings for Outside Diameter Controlled Polyamide-12 Pipe and Tubing for Gas Distribution,” April 1, 2018.

6. ASTM F2817-13(2019), “Standard Specification for Poly (Vinyl Chloride) (PVC) Gas Pressure Pipe and Fittings for Maintenance or Repair,” May 1, 2019.

7. ASTM F2945-18, “Standard Specification for Polyamide 11 Gas Pressure Pipe, Tubing, and Fittings,” September 1, 2018.

8. PPI T R 3/2021, “Policies and Procedures for Developing Hydrostatic Design Basis (HDB), Hydrostatic Design Stresses (HDS), Pressure Design Basis (PDB), Strength Design Basis (SDB), Minimum Required Strength (MRS) Ratings, and Categorized Required Strength (CRS) for Thermoplastic Piping Materials or Pipe,” June 16, 2021.

9. PPI T R 4/2021, “PPI HSB Listing of Hydrostatic Design Basis (HDB), Hydrostatic Design Stress (HDS), Strength Design Basis (SDB), Pressure Design Basis (PDB) and Minimum Required Strength (MRS) Ratings For Thermoplastic Piping Materials or Pipe,” June 16, 2021.

H. Miscellaneous Amendments

This final rule makes several miscellaneous editorial amendments and corrections to the PSRs. Some of these revisions include the removal of ASTM D638-03, Standard Test Method for Tensile Properties of Plastics from current § 192.7(e)(10), an action that should have occurred due to other changes made by the Plastic Pipe Rule (83 FR 58694), which published on November 20, 2018. The standard is no longer referenced in § 192.283(a)-(b) because of changes in the Plastic Pipe Rule that altered the language to read “in accordance with a listed specification,” which refers to Section I.A. and I.B. of appendix B to part 192. Additional standards are now incorporated for different material types, such as ASTM F2945 for PA11 and ASTM F2785 for PA12. ASTM D638 is a referenced document within both those standards and ASTM D2513 for PE. Therefore, ASTM D638 no longer needs to be directly incorporated by reference into § 192.7. Section 192.7(e)(10) (or, more precisely, § 192.7(f)(10) as revised by this final rule) will be reserved.

In addition, PHMSA is revising § 191.9: Distribution system: Incident report. Currently, § 191.9(a) references Department of Transportation Form RSPA F 7100.1, which is the previous version of the form. PHMSA is changing this reference to Department of Transportation Form PHMSA F 7100.1. PHMSA is also removing references to specific editions of the standards in this rule throughout parts 192 and 195, except in §§ 192.7 and 195.3. To determine the edition of the standard that is incorporated by reference, operators would refer to §§ 192.7 and 195.3. PHMSA already directs operators to these sections with the following language, which is used throughout parts 192 and 195 whenever a standard is referenced: “(incorporated by reference, see § 192.7)” or “(incorporated by reference, see § 195.3).” Failure to reference these sections may not serve as the basis for a request for leniency in an enforcement case. PHMSA plans to remove references to other specific editions of standards from parts 192 and 195 in future rules. Removing extraneous references to edition numbers will increase administrative efficiency and reduce regulatory uncertainty that could result from inadvertently referencing outdated editions of standards. These amendments simplify both future standards update rules and the PSRs.

Further, PHMSA is revising the definition of a moderate consequence area in § 192.3 to replace the reference to a Federal Highway Administration (FHWA) document, “Highway Functional Classifications Concepts, Criteria and Procedures.” PHMSA is also adding a new appendix, appendix G, to part 192, to provide the guidance on moderate consequence areas that currently is provided by the FHWA's “Highway Functional Classifications Concepts, Criteria and Procedures” document. The new appendix G includes guidance relevant to the terms “Designated Interstate,” “Freeway,” “Expressway,” and “Principal Arterial Roadway,” which appear in the definition of a moderate consequence area. The appendix repeats the information from the FHWA's document verbatim. PHMSA is not making any substantive change to the definition of a moderate consequence area.

PHMSA has decided to not move forward with the editorial change to remove the word “telephonic” from § 191.5(c). The National Response Center (NRC) no longer accepts electronic submission, so the amendment is unnecessary.

Finally, PHMSA is incorporating a number of other minor updates and changes, including:

• Amending § 191.22(c)(1)(i) to change “of” to “or” in the following phrase: “Construction of any planned rehabilitation,” to rectify a typographical error;

• Correcting the reference in § 192.327(g) from § 192.612(b)(3) to § 192.612(c)(3);

• Adding § 192.620(d) to the list of reference locations for NACE SP0502, which currently is listed in § 192.7(h)(4) and will be listed in § 192.7(e)(1) as revised by this final rule;

• Amending § 192.620(d)(7)(ii) to reference “NACE SP0502” instead of “NACE RP-0502-2002;”

• Amending the address in § 192.18(a)(2) to read: “ATTN: Information Resources Manager, Office of Pipeline Safety, Pipeline and Hazardous Materials Safety Administration, PHF-30, 1200 New Jersey Avenue SE, Washington, DC 20590;”

• Amending appendix B to part 192 to remove version numbers from the referenced standards;

• Amending appendix B to part 192 to standardize the structure of the references; and

• Amending § 195.54 to add DOT Form 7000-2.

VI. Regulatory Analyses and Notices

A. Legal Authority for This Rulemaking

This final rule is published under the authority of the Secretary of Transportation delegated to the PHMSA Administrator pursuant to 49 CFR 1.97. Among the statutory authorities delegated to PHMSA are those set forth in the Federal pipeline safety statutes (49 U.S.C. 60101 et seq.). 49 U.S.C. 60102 grants authority, to the extent appropriate and practicable, to the Secretary to update incorporated, voluntary, consensus industry technical standards that were adopted as part of the PSR to protect public safety and the environment.

This final rule incorporates by reference more than a dozen updated standards. This final rule also makes several other minor clarifying and editorial changes to the PSRs.

B. Executive Order 12866; Regulatory Planning and Review

Executive Order (E.O.) 12866 (“Regulatory Planning and Review”),¹⁰ as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations generally should “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations generally must choose the “least costly regulatory alternative that achieves the relevant objectives” unless required by law or compelling safety need.

¹⁰ 58 FR 51735 (Oct. 4, 1993).

E.O. 12866 and DOT Order 2100.6B also require that PHMSA submit “significant regulatory actions” to the Office of Information and Regulatory Affairs (OIRA) within the Executive Office of the President's Office of Management and Budget (OMB) for review. This final rule is a not significant regulatory action pursuant to E.O. 12866; it also has not designated this rule as a “major rule” as defined by the Congressional Review Act (5 U.S.C. 801 et seq.). In accordance with the NTTAA and OMB Circular A-119, PHMSA continuously reviews new editions and revisions to relevant standards and publishes a proposed rule every 2-3 years to incorporate new or updated consensus standards by reference. This practice is consistent with the intent of the NTTAA and OMB directives to avoid the need to develop government standards that could potentially result in regulatory conflicts with updated standards and an increased compliance burden for industry.

PHMSA expects that the changes to the PSRs described in this final rule will result in unquantified public safety and environmental benefits associated with the updated standards. Though many of the amendments are editorial revisions or clarifications, others consist of substantive changes that reflect advancements in the state of knowledge (based on developments in technology, testing, and practical experience) compared to earlier versions of the same standards. PHMSA expects that updating the standards referenced in the PSR e will enhance the protection of public safety and the environment.

The administrative burden imposed from updating the standards referenced in this final rule will be negligible. Updates to consensus industry standards are generally accepted and followed on a voluntary basis throughout most of the pipeline industry. The majority of pipeline operators already purchase and voluntarily apply industry standards—including the updated standards that are the subject of this rulemaking—within their ordinary business practices. Most of the updated standards incorporated by reference in this final rule can be viewed online for free. Incorporation of the updated version of these standards within the PSRs will avoid the additional costs of complying with different versions of the same standards.

In addition to incorporating updated industry standards, PHMSA is adopting non-substantive editorial changes and clarifications of certain provisions of regulatory language. Since these editorial changes are minor, this final rule will not require pipeline operators to undertake significant new pipeline safety initiatives and will have negligible cost implications. The non-substantive changes will increase the clarity of the pipeline safety regulations, thereby improving compliance and helping to ensure the safety of the Nation's pipeline systems.

C. Executive Orders 14192 and 14219

This final rule is an E.O. 14192 (“Unleashing Prosperity Through Deregulation”) deregulatory action. PHMSA estimates that the total costs of the rule on the regulated community will be less than zero. Nor does this rule implicate any of the factors identified in section 2(a) of E.O. 14219 (“Ensuring Lawful Governance and Implementing the President's ‘Department of Government Efficiency’ Deregulatory Initiative”) that are indicative of a regulation that is “unlawful . . . [or] that undermine[s] the national interest.” ¹¹

¹¹ 90 FR 10583 (Feb. 25, 2025).

D. Energy-Related Executive Orders 13211, 14154, and 14156

The President has declared in E.O. 14156 (“Declaring a National Energy Emergency”) ¹² a national emergency to address America's inadequate energy development production, transportation, refining, and generation capacity. Similarly, E.O. 14154 (“Unleashing American Energy”) ¹³ asserts a Federal policy to unleash American energy by ensuing access to abundant supplies of reliable, affordable energy from (inter alia) the removal of “undue burden[s]” on the identification, development, or use of domestic energy resources such as PHMSA-jurisdictional gasses and hazardous liquids. PHMSA finds this final rule is consistent with each of E.O. 14156 and E.O. 14154. The final rule will give affected pipeline operators the benefit of using the updated standards to maintain or improve public safety, prevent regulatory confusion, and reduce compliance burdens on stakeholders. PHMSA therefore expects the regulatory amendments in this final rule will in turn increase national pipeline transportation capacity and improve pipeline operators' ability to provide abundant, reliable, affordable natural gas and hazardous liquids in response to residential, commercial, and industrial demand.

¹² 90 FR 8353 (Jan. 29, 2025).

¹³ 90 FR 8353 (Jan. 29, 2025).

This final rule is not a “significant energy action” under E.O. 13211 (“Actions Concerning Regulations That Significantly Affect Energy Supply, Distribution, or Use”),¹⁴ which requires Federal agencies to prepare a Statement of Energy Effects for any “significant energy action.” Because this final rule is not a significant action under E.O. 12866, it will not have a significant adverse effect on supply, distribution, or energy use; OIRA has therefore not designated this final rule as a significant energy action.

¹⁴ 66 FR 28355 (May 22, 2001).

E. Executive Order 13132

PHMSA analyzed this final rule in accordance with the principles and criteria contained in E.O. 13132 (“Federalism”) ¹⁵ and the Presidential Memorandum (“Preemption”) published in the Federal Register on May 22, 2009.¹⁶ E.O. 13132 requires agencies to assure meaningful and timely input by State and local officials in the development of regulatory policies that may have “substantial direct effects on the States, on the relationship between the National Government and the States, or on the distribution of power and responsibilities among the various levels of government.”

¹⁵ 64 FR 43255 (Aug. 10, 1999).

¹⁶ 74 FR 24693 (May 22, 2009).

While the final rule may operate to preempt some State requirements, it will not impose any regulation that has substantial direct effects on the States, the relationship between the National Government and the States, or the distribution of power and responsibilities among the various levels of government. Section 60104(c) of Federal Pipeline Safety Laws prohibits certain State safety regulation of interstate pipelines. Under Federal Pipeline Safety Laws, States that have submitted a current certification under section 60105(a) can augment Federal pipeline safety requirements for intrastate pipelines regulated by PHMSA but may not approve safety requirements less stringent than those required by Federal law. A State may also regulate an intrastate pipeline facility that PHMSA does not regulate. The preemptive effect of the regulatory amendments in this final rule is limited to the minimum level necessary to achieve the objectives of the Federal Pipeline Safety Laws. Therefore, the consultation and funding requirements of E.O. 13132 do not apply.

F. Regulatory Flexibility Act

The Regulatory Flexibility Act (5 U.S.C. 601 et seq.) requires Federal agencies to conduct a Final Regulatory Flexibility Analysis (FRFA) for a final rule subject to notice-and-comment rulemaking under the APA unless the agency head certifies that the rulemaking will not have a significant economic impact on a substantial number of small entities. PHMSA expects no affected operators will face significant costs because the reference is freely available, most operators are already in compliance, and compliance cost differences between standards are expected to be negligible. E.O. 13272 (“Proper Consideration of Small Entities in Agency Rulemaking”) ⁹ obliges agencies to establish procedures promoting compliance with the Regulatory Flexibility Act. DOT posts its implementing guidance on a dedicated web page.¹⁰ This final rule was developed in accordance with E.O. 13272 and DOT implementing guidance to ensure compliance with the Regulatory Flexibility Act. PHMSA expects that this final rule will relieve regulatory burdens and therefore certifies the final rule will not have a significant impact on a substantial number of small entities.

G. Unfunded Mandates Reform Act of 1995

The Unfunded Mandates Reform Act (UMRA, 2 U.S.C. 1501 et seq.) requires agencies to assess the effects of Federal regulatory actions on State, local, and Tribal governments, and the private sector. For any proposed or final rule that includes a Federal mandate that may result in the expenditure by state, local, and Tribal governments, in the aggregate of $100 million or more (in 1996 dollars) in any given year, the agency must prepare, amongst other things, a written statement that qualitatively and quantitatively assesses the costs and benefits of the Federal mandate.

This final rule does not impose unfunded mandates under UMRA because it does not result in costs of $100 million or more (in 1996 dollars) per year for either State, local, or Tribal governments, or to the private sector.

H. Final Environmental Assessment

1. Introduction

The National Environmental Policy Act of 1969 (NEPA; 42 U.S.C. 4321 et seq.), requires that Federal agencies assess and consider impacts on the human and natural environment of their actions. When an action does not have a reasonably foreseeable significant effect on the quality of the human environment, or if the significance of such effect is unknown, Federal agencies are required to prepare an environmental assessment. If, based on the finding of the environmental review, the agency determines not to prepare an environmental impact statement (EIS) because the proposed action will not have significant effects on the human or natural environment, the agency can conclude the NEPA process with a finding of no significant impact (FONSI) (42 U.S.C. 4336(b)(2)).

2. Purpose and Need

The purpose of this final rule is to incorporate by reference (IBR) 19 updated voluntary, consensus industry technical standards (updated industry standards) within the PSR (49 CFR parts 190-199). These updated standards will maintain or improve public safety, prevent regulatory confusion, and reduce compliance burdens consistent with the requirements in the NTTAA of 1995 (15 United States Code (U.S.C.) 272 (note)).

PHMSA incorporates more than 80 industry standards by reference into the PSR. This final rule is needed because these standards become outdated over time as new editions become available. By updating these standards, PHMSA ensures better alignment of the PSR with the latest innovations in operational and management practices, materials, testing, and technological advancements; enhances compliance by avoiding conflict between different versions of the same industry standards; and facilitates safety-focused allocation of resources by pipeline operators.

3. Description of Alternatives

3.1 No Action Alternative

If PHMSA were to select the No Action Alternative, no changes would be made to the current PSRs. There would not be better alignment of the PSR with the latest innovations in operational and management practices, materials, testing, and technological advancements; enhancement of compliance by avoiding conflict between different versions of the same industry standards; and facilitation of safety-focused allocation of resources by pipeline operators. Thus, the No Action Alternative does not fulfill the purpose and need of this action.

3.2 Selected Action Alternative (Final Rule)

This alternative incorporates updated industry standards and amendments into the 49 CFR parts 192 and 195. These updated industry standards are developed through agreed-upon procedures and adopted by domestic and international standard development organizations, ensuring the voluntary, consensus industry standards reflect modern technology and technology practices. The amendments are summarized below and can be found in more detail in Section V of the Final Rule.

Standards development organization | Standard incorporated by reference
American Petroleum Institute | 1. API Recommended Practice (RP) 652, “Linings of Aboveground Petroleum Storage Tank Bottoms,” 5th Edition, May 2020.
| 2. API RP 2003, “Protection Against Ignitions Arising out of Static, Lightning, and Stray Currents,” 8th Edition, September 2015, reaffirmed March 2020.
| 3. API Specification (Spec) 12F, “Specification for Shop-welded Tanks for Storage of Production Liquids,” 13th Edition, January 2019.
| 4. API 510, “Pressure Vessel Inspection Code: In-Service Inspection, Rating, Repair, and Alteration,” 10th Edition, May 1, 2014, Including Addendum 1 (May 2017).
| 5. API Standard (Std) 2510, “Design and Construction of LPG Installations,” 9th Edition, August 2020.
American Society of Mechanical Engineers | 1. ASME B16.40-2019, “Manually Operated Thermoplastic Gas Shutoffs and Valves in Gas Distribution Systems,” issued February 11, 2019.
| 2. ASME B31.4-2019, “Pipeline Transportation Systems for Liquids and Slurries: ASME Code for Pressure Piping, B31,” issued November 1, 2019.
The American Society for Nondestructive Testing | 1. ANSI/ASNT ILI-PQ-2017, “In-line Inspection Personnel Qualification and Certification,” 2017 Edition, approved December 12, 2017.
The Association for Materials Protection and Performance | 1. ANSI/NACE SP0502-2010, Pipeline External Corrosion Direct Assessment Methodology, revised June 24, 2010, (NACE SP0502).
| 2. NACE SP0102-2017, “In-Line Inspection of Pipelines,” March 10, 2017.
ASTM International | 1. ASTM A372/A372M-20e1, “Standard Specification for Carbon and Alloy Steel Forgings for Thin-Walled Pressure Vessels,” approved March 1, 2020.
| 2. ASTM A672/A672M-19, “Standard Specification for Electric-Fusion-Welded Steel Pipe for High-Pressure Service at Moderate Temperatures,” approved November 1, 2019.
| 3. ASTM D2513-20, “Standard Specification for Polyethylene (PE) Gas Pressure Pipe, Tubing, and Fittings,” approved December 1, 2020.
| 4. ASTM D2564-20, “Standard Specification for Solvent Cements for Poly(Vinyl Chloride) (PVC) Plastic Piping Systems,” approved August 1, 2020.
| 5. ASTM F1055-16a, “Standard Specification for Electrofusion Type Polyethylene Fittings for Outside Diameter Controlled Polyethylene and Crosslinked Polyethylene (PEX) Pipe and Tubing,” approved November 15, 2016.
| 6. ASTM F1924-19, “Standard Specification for Plastic Mechanical Fittings for Use on Outside Diameter Controlled Polyethylene Gas Distribution Pipe and Tubing,” approved August 1, 2019.
| 7. ASTM F1948-20, “Standard Specification for Metallic Mechanical Fittings for Use on Outside Diameter Controlled Thermoplastic Gas Distribution Pipe and Tubing,” approved February 1, 2020.
| 8. ASTM F2620-20ae2, “Standard Practice for Heat Fusion Joining of Polyethylene Pipe and Fittings,” approved December 1, 2020.
| 9. ASTM F2785-21, “Standard Specification for Polyamide 12 Gas Pressure Pipe, Tubing, and Fittings,” approved July 1, 2021.
The National Fire Protection Association | 1. NFPA 30, “Flammable and Combustible Liquids Code,” 2021 Edition, effective August 31, 2020.
Miscellaneous Amendments
| 1. Removing of ASTM D638, “Standard Test Method for Tensile Properties of Plastics” from § 192.7(e)(10).
| 2. Revising of § 191.9: Distribution system: Incident report to update reference to Department of Transportation Form RSPA F 7100.1 and removing references to specific editions of the standards in this rule throughout parts 192 and 195, except in §§ 192.7 and 195.3.
| 3. Revising of definition of a moderate consequence area in § 192.3 and adding new appendix, appendix G to part 192 to provide guidance on moderate consequence areas.
| 4. Amending § 191.22(c)(1)(i) to change “of” to “or” in the following phrase: “Construction of any planned rehabilitation,” thereby rectifying a typographical error.
| 5. Correcting the reference in § 192.327(g) from § 192.612(b)(3) to § 192.612(c)(3).
| 6. Adding § 192.620(d) to the list of reference locations for NACE SP0502, which is currently listed in § 192.7(h)(4).
| 7. Amending § 192.620(d)(7)(ii) to reference “NACE SP0502” instead of “NACE RP-0502-2002.”
| 8. Amending the address in § 192.18(a)(2) to read: “ATTN: Information Resources Manager, Office of Pipeline Safety, Pipeline and Hazardous Materials Safety Administration, PHF-30, 1200 New Jersey Avenue SE, Washington, D.C. 20590.”
| 9. Amending appendix B to part 192 to remove version numbers from the referenced standards.
| 10. Amending appendix B to part 192 to standardize the structure of the references.
| 11. Amending § 195.54 to add DOT Form 7000-2.

4. Affected Environment

The Nation's pipelines are located throughout the United States, both onshore and offshore, and traverse a variety of environments that range from highly populated urban sites to remote, unpopulated rural areas and ecologically sensitive environments. Updating new industry standards or those already incorporated into the PSRs can provide operators with the advantages and added safety that may be associated with newer technologies. These standards are based on the accumulated knowledge and experience of owners, operators, manufactures, risk-management experts, and others involved in the pipeline industry, as well as government agencies that write regulations to ensure the products are moved safely throughout the country. Because the proposed rule is national in scope, it can be assumed the affected environment includes environmental resources such as air, land, water, cultural and socio-economic features throughout the entirety of the United States.

5. Environmental Consequences

5.1 No Action Alternative

If PHMSA were to select the No Action Alternative, the PSR would remain as is and there would be no new impact on the human or natural environment. The No Action Alternative would not adopt these new editions and the PSRs would fall behind in the latest innovations in operational and management practices, materials, testing, and technological advancements, would not enhance compliance by avoiding conflict between different versions of the same industry standards, and would not facilitate safety-focused allocation of resources by pipeline operators. The No Action Alternative would not address the purpose and need for the final rule.

5.2 Selected Action Alternative (Final Rule)

The amendments made under the Selected Action Alternative will either maintain or enhance the high safety standards currently achieved under the PSRs by aligning regulations with updated voluntary, consensus industry technical standards by reference. These industry standards often incorporate new technologies, materials, management practices, and other innovations that can improve the physical integrity, and the safe operation of pipeline facilities. By incorporating these updates by reference into the PSR, PHMSA can prevent conflicts between the standards referenced in the PSRs and updated versions of the same standards with which operators and suppliers may comply voluntarily, thereby (1) avoiding the confusion and expense associated with ensuring compliance with competing versions of the same standard; and (2) improving compliance and allowing the allocation of more operator resources toward safety.

The risk of a pipeline incident depends on several factors, including but not limited to, the contents of the pipeline and the incident location, notably whether the incident occurs near a heavily populated area or sensitive environment. A release from a pipeline that transports hazardous liquid (as well as carbon dioxide) or natural gas—which is subject to PHMSA's jurisdiction—could harm the natural environment and the health and safety of the public. Remediation following a hazardous liquid release requires the removal and disposal of soil directly adjacent to and within the vicinity of pipelines, which results in the loss of vegetation. The replacement of this removed soil can result in the introduction of invasive species, which can degrade the ecological value of an area. In addition, a release could lead to contamination of air and water resources, including oceans, streams, and lakes.

Compliance with the PSR reduces the likelihood of accidental product release. Updating new industry standards or those already incorporated into the PSRs can provide operators with the advantages and added safety that may be associated with newer technologies. These standards are based on the accumulated knowledge and experience of owners, operators, manufactures, risk-management experts, and others involved in the pipeline industry, as well as government agencies that write regulations to ensure the products are moved safely throughout the country. PHMSA staff actively participates in the standards development process to ensure that each incorporated standard will enhance pipeline safety and environmental protection. PHMSA has qualitatively reviewed each of the standards described in this rule and determined that most of the updates involve minor changes, such as editorial changes, the inclusion of best practices, or similar changes. In a small number of instances, standards organizations have relaxed standards to reduce industry burden, but PHMSA has found that in all cases of such a change in this rulemaking, the change is justified by overlapping protections or technological innovation, and therefore would not lead to any degradation in safety or the environment.

6. Public Involvement

PHMSA issued a Draft Environmental Assessment (DEA) with the NPRM on August 29, 2022, under Docket No. PHMSA-2020-0013, which proposed incorporating by reference all or parts of updated editions of some of the voluntary, consensus, industry technical standards into the PSR, along with non-substantive edits and clarifications to certain other provisions of the PSR.

The comment period for the NPRM and DEA closed on October 28, 2022. PHMSA received nine comments. Two were generally supportive of the proposed changes and their anticipated environmental benefits. The comments, along with PHMSA's responses are detailed in Section IV of the final rule.

Pursuant to 49 U.S.C. 60115, the GPAC and LPAC met on January 16, 2025, to assess the technical feasibility, reasonableness, cost-effectiveness, and practicability of the standards proposed in the NPRM. The GPAC and LPAC voted on and approved the regulatory amendments as proposed. The transcripts and the vote slides together constitute the GPAC and LPAC report for this rulemaking required under 49 U.S.C. 60115. No discussions were related to the environmental effects analysis of the NPRM as described in the DEA. The discussions, along with PHMSA's responses are detailed in Section IV of the final rule.

7. Agencies and Persons Consulted

No other agencies or persons were consulted during the development of this Environmental Assessment.

8. Finding of No Significant Impact

Based on the analysis summarized in this EA and accompanying final rule, PHMSA finds that the Selected Action Alternative (final rule) will not have a significant impact on the human or natural environment. The amendments of the final rule will either maintain or enhance the protection of public safety by ensuring better alignment of the PSRs with the latest innovations in operational and management practices, materials, testing, and technological advancements; enhance compliance by avoiding conflict between different versions of the same industry standards; and facilitate safety-focused allocation of resources by pipeline operators. PHMSA determined that most of the updates involve minor changes, such as editorial changes, the inclusion of best practices, or similar changes. Therefore, PHMSA has determined that this rulemaking results in a finding of no significant impact to the human or natural environment.

I. Executive Order 13175

PHMSA analyzed this final rule according to the principles and criteria in E.O. 13175 (“Consultation and Coordination with Indian Tribal Governments”) ¹⁷ and DOT Order 5301.1A (“Department of Transportation Tribal Consultation Policies and Procedures”). E.O. 13175 requires agencies to assure meaningful and timely input from Tribal government representatives in the development of rules that significantly or uniquely affect Tribal communities by imposing “substantial direct compliance costs” or “substantial direct effects” on such communities or the relationship or distribution of power between the Federal government and Tribes.

¹⁷ 65 FR 67249 (Nov. 9, 2000).

PHMSA assessed the impact of the final rule and determined that it will not significantly or uniquely affect Tribal communities or Indian Tribal governments. The rulemaking's regulatory amendments have a broad, national scope; therefore, this final rule will not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This rulemaking will not create, amend, or rescind any existing information collections.

K. Executive Order 13609 and International Trade Analysis

E.O. 13609 (“Promoting International Regulatory Cooperation”) requires agencies to consider whether the impacts associated with significant variations between domestic and international regulatory approaches are unnecessary or may impair the ability of U.S. businesses to export and compete internationally.¹⁸ By meeting shared challenges involving health, safety, labor, environmental, security, and other issues, international regulatory cooperation can identify approaches that are at least as protective as those that would be adopted in the absence of such cooperation. International regulatory cooperation can also reduce, eliminate, or prevent unnecessary differences in regulatory requirements.

¹⁸ 77 FR 26413 (May 4, 2012).

Similarly, the Trade Agreements Act of 1979 (Pub. L. 96-39), as amended by the Uruguay Round Agreements Act (Pub. L. 103-465), prohibits Federal agencies from establishing any industry standards or engaging in related activities that create unnecessary obstacles to the foreign commerce of the United States. For purposes of these requirements, Federal agencies may participate in the establishment of international standards, so long as the standards have a legitimate domestic objective—such as helping to ensure safety—and do not operate to exclude imports that meet this objective. The statute also requires consideration of international standards and, where appropriate, that they serve as the basis for U.S. standards.

PHMSA participates in the establishment of international standards to protect the safety of the U.S. public. PHMSA assessed the effects of the final rule and understands that it will not cause unnecessary obstacles to foreign trade.

L. Cybersecurity and Executive Order 14028

E.O. 14028 (“Improving the Nation's Cybersecurity”) ¹⁹ directed the Federal government to improve its efforts to identify, deter, and respond to “persistent and increasingly sophisticated malicious cyber campaigns.” PHMSA has considered the effects of the final rule and has determined that its regulatory amendments will not materially affect the cybersecurity risk profile for pipeline facilities.

¹⁹ 86 FR 26633 (May 17, 2021).

M. National Technology Transfer and Advancement Act

The NTTAA directs Federal agencies to “use technical standards developed by voluntary consensus standard bodies instead of government-developed technical standards,” “when practical and consistent with applicable laws.” Consistent with that mandate, PHMSA incorporates more than 80 industry standards by reference into the PSRs; however, many standards become outdated over time as new editions become available. By updating these standards, PHMSA ensures better alignment of the PSRs with the latest innovations in operational and management practices, materials, testing, and technological advancements; enhances compliance by avoiding conflict between different versions of the same industry standards; and facilitates safety-focused allocation of resources by pipeline operators. This final rule adopts 19 updated voluntary, consensus industry technical standards. Other standards appear in the amendatory text of this document and have already been approved for the locations in which they appear.

N. Severability

The purpose of this final rule is to operate holistically in addressing various issues necessary to ensure safe operation of regulated gas and hazardous liquid (as well as carbon dioxide) pipelines, with a focus on providing pipeline operators the ability to use current technologies, improved materials, and updated industry and management practices. However, PHMSA recognizes that this rule incorporates by reference various updated industry standards that focus on unique topics. Therefore, PHMSA concludes that the regulatory amendments adopted herein incorporating various updated industry standards into the PSRs are severable and able to function independently if severed from each other. In the event a court were to invalidate one or more of the unique provisions of the final rule issued in this proceeding, the remaining provisions should stand, thus allowing their continued effect.

List of Subjects

49 CFR Part 191

Incident, Notifications.

49 CFR Part 192

Incorporation by reference, Natural gas, Pipeline safety.

49 CFR Part 195

Anhydrous ammonia, Carbon dioxide, Incorporation by reference, Petroleum, Pipeline safety.

In consideration of the foregoing, PHMSA is amending 49 CFR parts 191, 192, and 195 as follows:

PART 191—TRANSPORTATION OF NATURAL AND OTHER GAS BY PIPELINE; ANNUAL, INCIDENT, AND OTHER REPORTING

1. The authority citation for part 191 continues to read as follows:

Authority: 30 U.S.C. 185(w)(3), 49 U.S.C. 5121, 60101 et seq., and 49 CFR 1.97.

§ 191.9 [Amended]

3. In § 191.9, amend paragraph (a) by removing the text “RSPA” and adding, in its place, the text “PHMSA”.

§ 191.22 [Amended]

3. In § 191.22, amend paragraph (c)(1)(i) by removing the words “Construction of any planned rehabilitation” and adding, in their place, the words “Construction or any planned rehabilitation”.

PART 192—TRANSPORTATION OF NATURAL AND OTHER GAS BY PIPELINE: MINIMUM FEDERAL SAFETY STANDARDS

4. The authority citation for part 192 continues to read as follows:

Authority: 30 U.S.C. 185(w)(3), 49 U.S.C. 5103, 60101 et seq., and 49 CFR 1.97.

§ 192.3 [Amended]

5. In § 192.3, in the definition for “Moderate consequence area”, amend paragraph (1)(ii) by removing the text “as defined in the Federal Highway Administration's Highway Functional Classification Concepts, Criteria and Procedures, Section 3.1 (see: https://www.fhwa.dot.gov/planning/processes/statewide/related/highway_functional_classifications/fcauab.pdf)” and adding, in its place, the text “(See appendix G to this part)”.

6. Revise § 192.7 to read as follows:

§ 192.7 What documents are incorporated by reference partly or wholly in this part?

(a) Certain material is incorporated by reference into this part with the approval of the Director of the Federal Register under 5 U.S.C. 552(a) and 1 CFR part 51. All approved incorporation by reference material (IBR) is available for inspection at the Pipeline and Hazardous Materials Safety Administration (PHMSA) and the National Archives and Records Administration (NARA). Contact PHSMA at: Office of Pipeline Safety, Pipeline and Hazardous Materials Safety Administration, 1200 New Jersey Avenue SE, Washington, DC 20590, 202-366-4046; www.phmsa.dot.gov/pipeline/regs. For information on the availability of this material at NARA, visit www.archives.gov/federal-register/cfr/ibr-locations or email fr.inspection@nara.gov. The material may be obtained from the sources in the following paragraphs of this section.

(b) American Petroleum Institute (API), 200 Massachusetts Avenue NW, Suite 1100, Washington, DC 20001-5571; phone: (202) 682-8000; website: www.api.org/.

(1) API Recommended Practice 5L1, Recommended Practice for Railroad Transportation of Line Pipe, 7th edition, September 2009, (API RP 5L1), IBR approved for § 192.65(a).

(2) API Recommended Practice 5LT, Recommended Practice for Truck Transportation of Line Pipe, First edition, March 2012, (API RP 5LT), IBR approved for § 192.65(c).

(3) API Recommended Practice 5LW, Recommended Practice for Transportation of Line Pipe on Barges and Marine Vessels, 3rd edition, September 2009, (API RP 5LW), IBR approved for § 192.65(b).

(4) API Recommended Practice 80, Guidelines for the Definition of Onshore Gas Gathering Lines, 1st edition, April 2000, (API RP 80), IBR approved for § 192.8(a).

(5) API Recommended Practice 1162, Public Awareness Programs for Pipeline Operators, 1st edition, December 2003, (API RP 1162), IBR approved for § 192.616(a), (b), and (c).

(6) API Recommended Practice 1165, Recommended Practice for Pipeline SCADA Displays, First edition, January 2007, (API RP 1165), IBR approved for § 192.631(c).

(7) API Specification 5L, Line Pipe, 46th edition, April 2018, including Errata 1 (May 2018), (API Spec 5L); IBR approved for §§ 192.55(e); 192.112(a), (b), (c), (d), and (e); 192.113; appendix B to part 192.

(8) API Specification 6D, Specification for Valves, 25th edition, November 1, 2021, including Errata (December 2021), Errata 2 (April 2022), Errata 3 (October 2023), Addendum 1 (April 2023), Addendum 2 (September 2024), and Addendum 3 (March 2025), (API Spec 6D); IBR approved for § 192.145(a).

(9) API Standard 1104, Welding of Pipelines and Related Facilities, 21st edition, September 2013, including Errata 1 through 5 (April 2014 through September 2018), Addendum 1 (2014), and Addendum 2 (2016), (API Std 1104); IBR approved for §§ 192.225(a); 192.227(a); 192.229(b) and (c); 192.241(c); appendix B to part 192.

(10) API Recommended Practice 1170, Design and Operation of Solution-mined Salt Caverns Used for Natural Gas Storage, 2nd edition, November 2022 (API RP 1170); IBR approved for § 192.12(a).

(11) API Recommended Practice 1171, Functional Integrity of Natural Gas Storage in Depleted Hydrocarbon Reservoirs and Aquifer Reservoirs, 2nd edition, November 2022, including Errata 1, September 2023 (API RP 1171); IBR approved for § 192.12(a), (b), and (d).

(12) API Standard 1163, In-Line Inspection Systems Qualification, Second edition, April 2013, Reaffirmed August 2018, (API STD 1163), IBR approved for § 192.493.

(c) American Society of Mechanical Engineers (ASME). Two Park Avenue, New York, NY 10016; phone: (800) 843-2763 (U.S./Canada); website: www.asme.org/.

(1) ASME/ANSI B16.1-2005, Gray Iron Pipe Flanges and Flanged Fittings: (Classes 25, 125, and 250), August 31, 2006, (ASME/ANSI B16.1); IBR approved for § 192.147(c).

(2) ASME/ANSI B16.5-2003, Pipe Flanges and Flanged Fittings, October 2004, (ASME/ANSI B16.5); IBR approved for §§ 192.147(a); 192.607(f).

(3) ASME B16.40-2019, Manually Operated Thermoplastic Gas Shutoffs and Valves in Gas Distribution Systems, issued February 11, 2019, (ASME B16.40); IBR approved for appendix B to this part.

(4) ASME/ANSI B31G-1991 (Reaffirmed 2004), Manual for Determining the Remaining Strength of Corroded Pipelines, 2004, (ASME/ANSI B31G); IBR approved for §§ 192.632(a); 192.712(b).

(5) ASME B31.8-2018, Gas Transmission and Distribution Piping Systems, Issued November 20, 2018, (ASME B31.8); IBR approved for §§ 192.112(b); 192.619(a); 192.911(m).

(6) ASME B31.8S-2018, Managing System Integrity of Gas Pipelines, Issued November 28, 2018, (ASME B31.8S); IBR approved for §§ 192.13(d); 192.714(c) and (d); 192.903 note to Potential impact radius; 192.907(b); 192.911 introductory text, (i), and (l); 192.913(a) through (c); 192.917(a) through (e); 192.921(a); 192.923(b); 192.925(b); 192.933(c) and (d); 192.935(b); 192.937(c); 192.939(a); 192.945(a).

(7) ASME B36.10M-2018, Welded and Seamless Wrought Steel Pipe, Issued October 12, 2018, (ASME B36.10M); IBR approved for § 192.279.

(8) ASME Boiler & Pressure Vessel Code, Section VIII, Division 1 “Rules for Construction of Pressure Vessels,” 2007 edition, July 1, 2007, (ASME BPVC, Section VIII, Division 1); IBR approved for §§ 192.153(a), (b), and (d); 192.165(b).

(9) ASME Boiler & Pressure Vessel Code, Section VIII, Division 2 “Alternate Rules, Rules for Construction of Pressure Vessels,” 2007 edition, July 1, 2007, (ASME BPVC, Section VIII, Division 2); IBR approved for §§ 192.153(b), and (d); 192.165(b).

(10) ASME Boiler & Pressure Vessel Code, Section IX: “Qualification Standard for Welding and Brazing Procedures, Welders, Brazers, and Welding and Brazing Operators,” 2007 edition, July 1, 2007, ASME BPVC, Section IX; IBR approved for §§ 192.225(a); 192.227(a); appendix B to this part.

(d) American Society for Nondestructive Testing, (ASNT), 1201 Dublin Road, Suite #G04, Columbus, OH 43215; phone: (800) 222-2768; website: www.asnt.org/.

(1) ANSI/ASNT ILI-PQ 2017, In-line Inspection Personnel Qualification and Certification, 2017 Edition, approved December 12, 2017, (ASNT ILI-PQ); IBR approved for § 192.493.

(2) [Reserved]

(e) Association for Material Protection and Performance (AMPP), (formerly NACE, International), 1440 South Creek Drive, Houston, Texas 77084; phone: (281) 228-6223 or (800) 797-6223; website: www.ampp.org/.

(1) ANSI/NACE SP0502-2010, Pipeline External Corrosion Direct Assessment Methodology, revised June 24, 2010, (NACE SP0502); IBR approved for §§ 192.319(f); 192.461(h); 192.620(d); 192.923(b); 192.925(b); 192.931(d); 192.935(b); 192.939(a).

(2) NACE SP0102-2017, In-Line Inspection of Pipelines, March 10, 2017, (NACE SP0102); IBR approved for §§ 192.150(a); 192.493.

(3) NACE SP0204-2008, Standard Practice, “Stress Corrosion Cracking (SCC) Direct Assessment Methodology,” reaffirmed September 18, 2008, (NACE SP0204); IBR approved for §§ 192.923(b); 192.929(b).

(4) NACE SP0206-2006, Standard Practice, “Internal Corrosion Direct Assessment Methodology for Pipelines Carrying Normally Dry Natural Gas (DG-ICDA),” approved December 1, 2006, (NACE SP0206), IBR approved for §§ 192.923(b); 192.927(b), (c).

(f) ASTM International, 100 Barr Harbor Drive, P.O. Box C700, West Conshohocken, PA 19428; phone: (610) 832-9585; website: www.astm.org/.

(1) ASTM A53/A53M-22, Standard Specification for Pipe, Steel, Black and Hot-Dipped, Zinc-Coated, Welded and Seamless, approved July 1, 2022, (ASTM A53/A53M); IBR approved for § 192.113; appendix B to part 192.

(2) ASTM A106/A106M-19A, Standard Specification for Seamless Carbon Steel Pipe for High-Temperature Service, approved November 1, 2019, (ASTM A106/A106M); IBR approved for § 192.113; appendix B to part 192.

(3) ASTM A333/A333M-18, Standard Specification for Seamless and Welded Steel Pipe for Low-Temperature Service and Other Applications with Required Notch Toughness, approved November 1, 2018, (ASTM A333/A333M); IBR approved for § 192.113; appendix B to part 192.

(4) ASTM A372/A372M-20e1, Standard Specification for Carbon and Alloy Steel Forgings for Thin-Walled Pressure Vessels, approved March 1, 2020, (ASTM A372/A372M); IBR approved for § 192.177(b).

(5) ASTM A381/A381M-23, Standard Specification for Metal-Arc-Welded Carbon or High-Strength Low-alloy Steel Pipe for Use With High-Pressure Transmission Systems, approved November 1, 2023, (ASTM A381); IBR approved for § 192.113(a); appendix B to part 192.

(6) ASTM A578/A578M-17 (2023), “Standard Specification for Straight-Beam Ultrasonic Examination of Rolled Steel Plates for Special Applications,” reapproved November 1, 2023, (ASTM A578/A578M); IBR approved for § 192.112(c).

(7) ASTM A671/A671M-20, Standard Specification for Electric-Fusion-Welded Steel Pipe for Atmospheric and Lower Temperatures, approved March 1, 2020, (ASTM A671/A671M); IBR approved for § 192.113(a); appendix B to part 192.

(8) ASTM A672/A672M-19, Standard Specification for Electric-Fusion-Welded Steel Pipe for High-Pressure Service at Moderate Temperatures, approved November 1, 2019, (ASTM A672/672M); IBR approved for § 192.113(a); appendix B to this part.

(9) ASTM A691/A691M-19, Standard Specification for Carbon and Alloy Steel Pipe, Electric-Fusion-Welded for High-Pressure Service at High Temperatures, approved November 1, 2019, (ASTM A691/A691M); IBR approved for § 192.113; appendix B to part 192.

(10) [Reserved]

(11) ASTM D2513-20, Standard Specification for Polyethylene (PE) Gas Pressure Pipe, Tubing, and Fittings, approved December 1, 2020, (ASTM D2513); IBR approved for appendix B to this part.

(12) ASTM D2517-00, Standard Specification for Reinforced Epoxy Resin Gas Pressure Pipe and Fittings, (ASTM D2517), IBR approved for §§ 192.281(d); 192.283(a); appendix B to this part.

(13) ASTM D2564-20, Standard Specification for Solvent Cements for Poly(Vinyl Chloride) (PVC) Plastic Piping Systems, approved August 1, 2020, (ASTM D2564); IBR approved for § 192.281(b).

(14) ASTM F1055-16a, Standard Specification for Electrofusion Type Polyethylene Fittings for Outside Diameter Controlled Polyethylene and Crosslinked Polyethylene (PEX) Pipe and Tubing, approved November 15, 2016, (ASTM F1055); IBR approved for § 192.283(a); appendix B to this part.

(15) ASTM F1924-19, Standard Specification for Plastic Mechanical Fittings for Use on Outside Diameter Controlled Polyethylene Gas Distribution Pipe and Tubing, approved August 1, 2019, (ASTM F1924); IBR approved for appendix B to this part.

(16) ASTM F1948-20, Standard Specification for Metallic Mechanical Fittings for Use on Outside Diameter Controlled Thermoplastic Gas Distribution Pipe and Tubing, approved February 1, 2020, (ASTM F1948); IBR approved for appendix B to this part.

(17) ASTM F1973-21, Standard Specification for Factory Assembled Anodeless Risers and Transition Fittings in Polyethylene (PE) and Polyamide 11 (PA11) and Polyamide 12 (PA12) Fuel Gas Distribution Systems, November 1, 2021, (ASTM F1973); IBR approved for § 192.204(b); appendix B to this part.

(18) ASTM F2145-23, Standard Specification for Polyamide 11 (PA 11) and Polyamide 12 (PA12) Mechanical Fittings for Use on Outside Diameter Controlled Polyamide 11 and Polyamide 12 Pipe and Tubing, amended February 1, 2023, (ASTM F2145); IBR approved for appendix B to this part.

(19) ASTM F2600-09(2023), Standard Specification for Electrofusion Type Polyamide-11 Fittings for Outside Diameter Controlled Polyamide-11 Pipe and Tubing, reapproved November 1, 2023, (ASTM F2600); IBR approved for appendix B to this part.

(20) ASTM F2620-20ae2, Standard Practice for Heat Fusion Joining of Polyethylene Pipe and Fittings, approved December 1, 2020, (ASTM F2620); IBR approved for §§ 192.281(c); 192.285(b).

(21) ASTM F2767-18(2023), Specification for Electrofusion Type Polyamide-12 Fittings for Outside Diameter Controlled Polyamide-12 Pipe and Tubing for Gas Distribution, November 1, 2023 (ASTM F2767); IBR approved for appendix B to this part.

(22) ASTM F2785-21, Standard Specification for Polyamide 12 Gas Pressure Pipe, Tubing, and Fittings, approved July 1, 2021, (ASTM F2785); IBR approved for appendix B to this part.

(23) ASTM F2817-13 (Reapproved 2023), Standard Specification for Poly (Vinyl Chloride) (PVC) Gas Pressure Pipe and Fittings for Maintenance or Repair, approved July 1, 2023, (ASTM F2817); IBR approved for appendix B to this part.

(24) ASTM F2945-18 (Reapproved 2023) Standard Specification for Polyamide 11 Gas Pressure Pipe, Tubing, and Fittings, approved November 1, 2023 (ASTM F2945); IBR approved for appendix B to this part.

(g) [Reserved]

(h) Manufacturers Standardization Society of the Valve and Fittings Industry, Inc. (MSS), 127 Park St. NE, Vienna, VA 22180; phone: (703) 281-6613; email: info@msshq.org; website: www.mss-hq.org/.

(1) ANSI/MSS SP-44-2019, Steel Pipeline Flanges, published April 2020, (MSS SP-44); IBR approved for § 192.147(a).

(2) [Reserved]

(i) National Fire Protection Association (NFPA), 1 Batterymarch Park, Quincy, Massachusetts 02169; phone: (800) 344-3555; website: www.nfpa.org/.

(1) NFPA 30, Flammable and Combustible Liquids Code, 2021 Edition, effective August 31, 2020, (NFPA 30); IBR approved for § 192.735(b).

(2) NFPA 58, Liquefied Petroleum Gas Code, 2020 edition, effective August 25, 2019, (NFPA 58); IBR approved for § 192.11.

(3) NFPA 59, Utility LP-Gas Plant Code, 2018 edition, effective September 6, 2017, (NFPA 59); IBR approved for § 192.11.

(4) NFPA 70, National Electrical Code (NEC), 2023 edition, effective September 1, 2022; IBR approved for §§ 192.163(e); 192.189(c).

(j) Pipeline Research Council International, Inc. (PRCI), 15059 Conference Center Drive Suite 130, Chantilly, VA 20151; phone: (703) 205-1600; website: www.prci.org.

(1) AGA, Pipeline Research Committee Project, PR-3-805, A Modified Criterion for Evaluating the Remaining Strength of Corroded Pipe, December 22, 1989, (PRCI PR-3-805 (R-STRENG)), IBR approved for §§ 192.632(a); 192.712(b).

(2) [Reserved]

(k) Plastics Pipe Institute, Inc. (PPI), 105 Decker Court, Suite 825, Irving, TX 75062; phone: 469-499-1044, website: www.plasticpipe.org/.

(1) PPI TR-3, Policies and Procedures for Developing Hydrostatic Design Basis (HDB), Hydrostatic Design Stresses (HDS), Pressure Design Basis (PDB), Strength Design Basis (SDB), Minimum Required Strength (MRS) Ratings, and Categorized Required Strength (CRS) for Thermoplastic Piping Materials or Pipe, May 1, 2024; IBR approved for § 192.121(a).

(2) PPI TR-4, PPI HSB Listing of Hydrostatic Design Basis (HDB), Hydrostatic Design Stress (HDS), Strength Design Basis (SDB), Pressure Design Basis (PDB) and Minimum Required Strength (MRS) Ratings For Thermoplastic Piping Materials or Pipe, updated May 1, 2024, (PPI TR-4); IBR approved for § 192.121(b).

7. Amend § 192.18 by revising paragraph (a)(2) to read as follows:

§ 192.18 How to notify PHMSA.

(a) * * *

(2) Sending the notification by mail to ATTN: Information Resources Manager, Office of Pipeline Safety, Pipeline and Hazardous Materials Safety Administration, PHF-30, 1200 New Jersey Avenue SE, Washington, DC 20590.

* * * * *

8. In § 192.113, amend table 1 to paragraph (a) by removing the entry for “ASTM A672” and adding, in its place, the entry “ASTM A672/A672M” to read as follows:

§ 192.113 Longitudinal joint factor (E) for steel pipe.

(a) * * *

Table 1 to Paragraph (a)
Specification | Pipe class | Longitudinal joint factor (E)
* * * * * * *
ASTM A672/A672M (incorporated by reference, see § 192.7) | Electric-fusion-welded | 1.00
* * * * * * *

* * * * *

§ 192.281 [Amended]

11. In § 192.281:

a. Amend paragraph (b)(2) by removing the text “ASTM D2564-12” and adding, in its place, the text “ASTM D2564”; and

b. Amend paragraph (d)(1) by removing the text “ASTM D 2517” and adding, in its place, the text “ASTM D2517”.

§ 192.283 [Amended]

12. In § 192.283:

a. Amend paragraph (a)(1)(ii) by removing the text “ASTM D2517-00” and adding, in its place, the text “ASTM D2517”; and

b. Amend paragraph (a)(1)(iii) by removing the text “ASTM F1055-98(2006)” and adding, in its place, the text “ASTM F1055”.

§ 192.327 [Amended]

13. In § 192.327, amend paragraph (g) by removing the text “§ 192.612(b)(3)” and adding, in its place, the text “§ 192.612(c)(3)”.

§ 192.493 [Amended]

14. Amend § 192.493 by removing the text “ANSI/ASNT” and adding, in its place, the text “ASNT”.

15. Amend § 192.620 by revising paragraph (d)(7)(ii) to read as follows:

§ 192.620 Alternative maximum allowable operating pressure for certain steel pipelines.

* * * * *

(d) * * *

To address increased risk of a maximum allowable operating pressure based on higher stress levels in the following areas: | Take the following additional step:
* * * * * * *
(7) * * * |
| (ii) Remediate any construction damaged coating with a voltage drop classified as moderate or severe (IR drop greater than 35% for DCVG or 50 dBµv for ACVG) under Section 4 of NACE SP0502 (incorporated by reference, see § 192.7).
* * * * * * *

* * * * *

16. In appendix B to part 192:

a. Revise Section I;

b. Amend paragraph II.B by:

i. Removing the text “API Standard 1104” and adding, in its place, the text “API Std 1104”; and

ii. Removing the text “section IX of the ASME Boiler and Pressure Vessel Code (ibr, see 192.7)” and adding, in its place, the text “ASME BPVC, Section IX (incorporated by reference, see 192.7)”; and

c. Amend paragraph II.D by removing the text “API Specification 5L” and adding, in its place, the text “API Spec 5L”.

The revision reads as follows:

Appendix B to Part 192—Qualification of Pipe and Components

I. List of Specifications

A. Listed Pipe Specifications

API Spec 5L, Line Pipe (incorporated by reference, see § 192.7).

ASTM A53/A53M, Standard Specification for Pipe, Steel, Black and Hot-Dipped, Zinc-Coated, Welded and Seamless (incorporated by reference, see § 192.7).

ASTM A106/A-106M, Standard Specification for Seamless Carbon Steel Pipe for High-Temperature Service (incorporated by reference, see § 192.7).

ASTM A333/A333M, Standard Specification for Seamless and Welded Steel Pipe for Low-Temperature Service and Other Applications with Required Notch Toughness (incorporated by reference, see § 192.7).

ASTM A381, Standard Specification for Metal-Arc-Welded Carbon or High-Strength Low-alloy Steel Pipe for Use With High-Pressure Transmission Systems (incorporated by reference, see § 192.7).

ASTM A671/A671M, Standard Specification for Electric-Fusion-Welded Steel Pipe for Atmospheric and Lower Temperatures (incorporated by reference, see § 192.7).

ASTM A672/A672M, Standard Specification for Electric-Fusion-Welded Steel Pipe for High-Pressure Service at Moderate Temperatures (incorporated by reference, see § 192.7).

ASTM A691/A691M, Standard Specification for Carbon and Alloy Steel Pipe, Electric-Fusion-Welded for High-Pressure Service at High Temperatures (incorporated by reference, see § 192.7).

ASTM D2513, Standard Specification for Polyethylene (PE) Gas Pressure Pipe, Tubing, and Fittings (incorporated by reference, see § 192.7).

ASTM D2517, Standard Specification for Reinforced Epoxy Resin Gas Pressure Pipe and Fittings (incorporated by reference, see § 192.7).

ASTM F2785, Standard Specification for Polyamide 12 Gas Pressure Pipe, Tubing, and Fittings (incorporated by reference, see § 192.7).

ASTM F2817, Standard Specification for Poly (Vinyl Chloride) (PVC) Gas Pressure Pipe and Fittings for Maintenance or Repair (incorporated by reference, see § 192.7).

ASTM F2945, Standard Specification for Polyamide 11 Gas Pressure Pipe, Tubing, and Fittings (incorporated by reference, see § 192.7).

B. Other Listed Specifications for Components

ASME B16.40, Manually Operated Thermoplastic Gas Shutoffs and Valves in Gas Distribution Systems (incorporated by reference, see § 192.7).

ASTM D2513, Standard Specification for Polyethylene (PE) Gas Pressure Pipe, Tubing, and Fittings (incorporated by reference, see § 192.7).

ASTM D2517, Standard Specification for Reinforced Epoxy Resin Gas Pressure Pipe and Fittings (incorporated by reference, see § 192.7).

ASTM F1055, Standard Specification for Electrofusion Type Polyethylene Fittings for Outside Diameter Controlled Polyethylene and Crosslinked Polyethylene (PEX) Pipe and Tubing (incorporated by reference, see § 192.7).

ASTM F1924, Standard Specification for Plastic Mechanical Fittings for Use on Outside Diameter Controlled Polyethylene Gas Distribution Pipe and Tubing (incorporated by reference, see § 192.7).

ASTM F1948, Standard Specification for Metallic Mechanical Fittings for Use on Outside Diameter Controlled Thermoplastic Gas Distribution Pipe and Tubing (incorporated by reference, see § 192.7).

ASTM F1973, Standard Specification for Factory Assembled Anodeless Risers and Transition Fittings in Polyethylene (PE) and Polyamide 11 (PA 11) and Polyamide 12 (PA 12) Fuel Gas Distribution Systems (incorporated by reference, see § 192.7).

ASTM F2145, Standard Specification for Polyamide 11 (PA 11) and Polyamide 12 (PA12) Mechanical Fittings for Use on Outside Diameter Controlled Polyamide 11 and Polyamide 12 Pipe and Tubing (incorporated by reference, see § 192.7).

ASTM F2600, Standard Specification for Electrofusion Type Polyamide-11 Fittings for Outside Diameter Controlled Polyamide-11 Pipe and Tubing (incorporated by reference, see § 192.7).

ASTM F2767, Specification for Electrofusion Type Polyamide-12 Fittings for Outside Diameter Controlled Polyamide-12 Pipe and Tubing for Gas Distribution (incorporated by reference, see § 192.7).

ASTM F2785, Standard Specification for Polyamide 12 Gas Pressure Pipe, Tubing, and Fittings (incorporated by reference, see § 192.7).

ASTM F2817, Standard Specification for Poly (Vinyl Chloride) (PVC) Gas Pressure Pipe and Fittings for Maintenance or Repair (incorporated by reference, see § 192.7).

ASTM F2945, Standard Specification for Polyamide 11 Gas Pressure Pipe, Tubing, and Fittings (incorporated by reference, see § 192.7).

* * * * *

17. Add appendix G to part 192 to read as follows:

Appendix G to Part 192—Guidance on Moderate Consequence Areas

I. List of Definitions

A. Other Principal Arterials

These roadways serve major centers of metropolitan areas, provide a high degree of mobility, and can also provide mobility through rural areas. Unlike their access-controlled counterparts, these roadways can serve abutting land uses directly. Forms of access for other principal arterial roadways include driveways to specific parcels and at-grade intersections with other roadways. For the most part, roadways that fall into the top three functional classification categories (interstate, other freeways and expressways, and other principal arterials) provide similar service in both urban and rural areas. The primary difference is that multiple arterial routes usually serve a particular urban area, radiating out from the urban center to serve the surrounding region. In contrast, an expanse of a rural area of equal size would be served by a single arterial.

B. Minor Arterials

Minor arterials provide service for trips of moderate length, serve geographic areas that are smaller than their higher-arterial counterparts, and offer connectivity to the higher-arterial system. In an urban context, they interconnect and augment the higher-arterial system, provide intra-community continuity, and may carry local bus routes. In rural settings, minor arterials should be identified and spaced at intervals that are consistent with population density so that all developed areas are within a reasonable distance of a higher-level Arterial. In addition, minor arterials in rural areas are typically designed to provide relatively high overall travel speeds, with minimum interference to through movement. The spacing of minor-arterial streets typically may vary from ⅛- to ½-mile in the central business district and between 2 and 3 miles in the suburban fringes. Normally, the spacing should not exceed 1 mile in fully developed areas.

C. Major and Minor Collectors

Collectors serve a critical role in the roadway network by gathering traffic from local roads and funneling it into the arterial network. Within the context of functional classification, collectors are broken down into two categories: major collectors and minor collectors. Until recently, this division was considered only in the rural environment. Currently, all collectors, regardless of whether they are within a rural area or an urban area, may be sub-stratified into major and minor categories. The determination regarding whether a given collector is a major or minor collector is frequently one of the biggest challenges in functionally classifying a roadway network. In the rural environment, collectors generally serve primarily intra-county travel (rather than statewide) and constitute those routes on which, independent of traffic volume, predominant travel distances are shorter than on arterial routes. Consequently, more moderate speeds may be posted. The distinctions between major collectors and minor collectors are often subtle. In general, major-collector routes are longer in length, have lower connecting-driveway densities, have higher speed limits, are spaced at greater intervals, have higher annual average traffic volumes, and may have more travel lanes than their minor-collector counterparts. Careful consideration should be given to these factors when assigning a major or minor collector designation. In rural areas, annual average daily traffic and spacing may be the most significant designation factors. Since major collectors offer more mobility and minor collectors offer more access, it is beneficial to reexamine these two fundamental concepts of functional classification. Overall, the total mileage of major collectors is typically lower than the total mileage of minor collectors, while the total collector mileage is typically one-third of the local roadway network.

PART 195—TRANSPORTATION OF HAZARDOUS LIQUIDS BY PIPELINE

18. The authority citation for part 195 continues to read as follows:

Authority: 30 U.S.C. 185(w)(3), 49 U.S.C. 5103, 60101 et seq., and 49 CFR 1.97.

19. Revise § 195.3 to read as follows:

§ 195.3 What documents are incorporated by reference partly or wholly in this part?

(a) Certain material is incorporated by reference into this part with the approval of the Director of the Federal Register under 5 U.S.C. 552(a) and 1 CFR part 51. All approved incorporation by reference material (IBR) is available for inspection at the Pipeline and Hazardous Materials Safety Administration (PHMSA) and the National Archives and Records Administration (NARA). Contact PHSMA at: Office of Pipeline Safety, Pipeline and Hazardous Materials Safety Administration, 1200 New Jersey Avenue SE, Washington, DC 20590; phone: 202-366-4046; website: www.phmsa.dot.gov/pipeline/regs. For information on the availability of this material at NARA, visit www.archives.gov/federal-register/cfr/ibr-locations or email fr.inspection@nara.gov. The material may be obtained from the sources in the following paragraphs of this section.

(b) American Petroleum Institute (API), 200 Massachusetts Avenue NW, Suite 1100, Washington, DC 20001-5571; phone: (202) 682-8000; website: www.api.org/.

(1) API 510, Pressure Vessel Inspection Code: In-service Inspection, Rating, Repair, and Alteration, 10th Edition, May 2014, Including Addendum 1 (May 2017); IBR approved for §§ 195.205(b); 195.432(c).

(2) API Recommended Practice 5L1, Recommended Practice for Railroad Transportation of Line Pipe, 7th edition, September 2009, (API RP 5L1); IBR approved for § 195.207(a).

(3) API Recommended Practice 5LT, Recommended Practice for Truck Transportation of Line Pipe, First edition, March 12, 2012, (API RP 5LT); IBR approved for § 195.207(c).

(4) API Recommended Practice 5LW, Recommended Practice Transportation of Line Pipe on Barges and Marine Vessels, 3rd edition, September 2009, (API RP 5LW); IBR approved for § 195.207(b).

(5) API Recommended Practice 651, Cathodic Protection of Aboveground Petroleum Storage Tanks, 4th edition, September 2014, (API RP 651); IBR approved for §§ 195.565; 195.573(d).

(6) API Recommended Practice 652, Linings of Aboveground Petroleum Storage Tank Bottoms, 5th Edition, May 2020, (API RP 652); IBR approved for § 195.579(d).

(7) API Recommended Practice 1130, Computational Pipeline Monitoring for Liquids: Pipeline Segment, 3rd edition, September 2007, (API RP 1130); IBR approved for §§ 195.134(c); 195.444(c).

(8) API Recommended Practice 1162, Public Awareness Programs for Pipeline Operators, 1st edition, December 2003, (API RP 1162); IBR approved for § 195.440(a), (b), and (c).

(9) API Recommended Practice 1165, Recommended Practice for Pipeline SCADA Displays, First edition, January 2007, (API RP 1165); IBR approved for § 195.446(c).

(10) API Recommended Practice 1168, Pipeline Control Room Management, First edition, September 2008, (API RP 1168); IBR approved for § 195.446(c) and (f).

(11) API Recommended Practice 2003, Protection Against Ignitions Arising out of Static, Lightning, and Stray Currents, 8th Edition, September 2015, reaffirmed March 2020, (API RP 2003); IBR approved for § 195.405(a).

(12) API Recommended Practice 2026, Safe Access/Egress Involving Floating Roofs of Storage Tanks in Petroleum Service, 4th edition, July 2022, (API RP 2026); IBR approved for § 195.405(b).

(13) API Specification 5L, Line Pipe, 46th edition, April 2018, including Errata 1 (May 2018), (API Spec 5L); IBR approved for § 195.106(b) and (e).

(14) API Specification 6D, Specification for Valves, 25th edition, November 1, 2021, including Errata 1 (December 2021), Errata 2 (April 2022), Errata 3 (October 2023), Addendum 1 (April 2023), Addendum 2 (September 2024), and Addendum 3 (March 2025), (API Spec 6D); IBR approved for § 195.116(d).

(15) API Specification 12F, Specification for Shop-welded Tanks for Storage of Production Liquids, 13th Edition, January 2019, (API Spec 12F); IBR approved for §§ 195.132(b); 195.205(b); 195.264(e); 195.307(a); 195.565; 195.579(d).

(16) API Standard 620, Design and Construction of Large, Welded, Low-pressure Storage Tanks, 12th edition, effective October 2013, including Addendum 1 through 4 (November 2014), Addendum 2 (April 2018), Addendum 3 (March 2021), Addendum 4 (February 2025), Errata 1 (March 2025), (API Std 620); IBR approved for §§ 195.132(b); 195.205(b); 195.264(e); 195.307(b); 195.565; 195.579(d).

(17) API Standard 650, Welded Tanks for Oil Storage, 13th edition, March 2020, including Errata 1 (January 2021), (API Std 650); IBR approved for §§ 195.132(b); 195.205(b); 195.307(c); 195.565; 195.579(d).

(18) API Standard 653, Tank Inspection, Repair, Alteration, and Reconstruction, 3rd edition, December 2001, (including addendum 1 (September 2003), addendum 2 (November 2005), addendum 3 (February 2008), and errata (April 2008)), (API Std 653); IBR approved for §§ 195.205(b); 195.307(d); 195.432(b).

(19) API Standard 1104, Welding of Pipelines and Related Facilities, 21st edition, September 2013, including Errata 1 through 5 (April 2014 through September 2018), Addendum 1 (July 2014), and Addendum 2 (May 2016), (API Std 1104); IBR approved for §§ 195.214(a); 195.222(a) and (b); 195.228(b).

(20) API Standard 1163, In-Line Inspection Systems Qualification, Second edition, April 2013, (API Std 1163); IBR approved for § 195.591.

(21) API Standard 2000, Venting Atmospheric and Low-pressure Storage Tanks, 7th Edition, March 2014, Reaffirmed April 2020, (API Std 2000); IBR approved for § 195.264(e).

(22) API Standard 2350, Overfill Prevention for Storage Tanks in Petroleum Facilities, 5th edition, September 2020, including Errata 1 (April 2021), (API Std 2350); IBR approved for § 195.428(c).

(23) API Standard 2510, Design and Construction of LPG Installations, 9th Edition, August 2020, (API Std 2510); IBR approved for §§ 195.132(b); 195.205(b); 195.264(b) and (e); 195.307(e); 195.428(c); 195.432(c).

(c) American Society of Mechanical Engineers (ASME), Two Park Avenue, New York, NY 10016; phone: (800) 843-2763 (U.S/Canada); website: www.asme.org/.

(1) ASME/ANSI B16.9-2007, Factory-Made Wrought Buttwelding Fittings, December 7, 2007, (ASME/ANSI B16.9); IBR approved for § 195.118(a).

(2) ASME/ANSI B31G-1991 (Reaffirmed 2004), Manual for Determining the Remaining Strength of Corroded Pipelines, 2004, (ASME/ANSI B31G); IBR approved for §§ 195.452(h); 195.587; 195.588(c).

(3) ASME B31.4-2019, Pipeline Transportation Systems for Liquids and Slurries: ASME Code for Pressure Piping, B31, issued November 1, 2019, (ASME B31.4); IBR approved for § 195.110(a).

(4) ASME B31.8-2018, Gas Transmission and Distribution Piping Systems, Issued November 20, 2018, (ASME B31.8); IBR approved for §§ 195.5(a); 195.406(a).

(5) ASME Boiler & Pressure Vessel Code, Section VIII, Division 1, Rules for Construction of Pressure Vessels, 2007 edition, July 1, 2007, (ASME BPVC, Section VIII, Division 1); IBR approved for §§ 195.124; 195.307(e).

(6) ASME Boiler & Pressure Vessel Code, Section VIII, Division 2, Alternate Rules, Rules for Construction of Pressure Vessels, 2007 edition, July 1, 2007, (ASME BPVC, Section VIII, Division 2); IBR approved for § 195.307(e).

(7) ASME Boiler & Pressure Vessel Code, Section IX: Qualification Standard for Welding and Brazing Procedures, Welders, Brazers, and Welding and Brazing Operators, 2007 edition, July 1, 2007, (ASME BPVC, Section IX); IBR approved for § 195.222(a).

(d) American Society for Nondestructive Testing (ASNT), 1201 Dublin Road, Suite #G04, Columbus, OH 43215; phone: (800) 222-2768; website: www.asnt.org.

(1) ANSI/ASNT ILI-PQ-2017, In-line Inspection Personnel Qualification and Certification, 2017 Edition, approved December 12, 2017, (ASNT ILI-PQ); IBR approved for § 195.591.

(2) [Reserved]

(e) Association for Material Protection and Performance (AMPP) (formerly NACE), 1440 South Creek Drive, Houston, TX 77084; phone: (281) 228-6223 or (800) 797-6223; website: www.ampp.org/.

(1) NACE SP0102-2017, In-Line Inspection of Pipelines, March 10, 2017, (NACE SP0102); IBR approved for §§ 195.120(a); 195.591.

(2) NACE SP0169-2007, Standard Practice, Control of External Corrosion on Underground or Submerged Metallic Piping Systems, reaffirmed March 15, 2007, (NACE SP0169), IBR approved for §§ 195.571; 195.573(a).

(3) NACE SP0204-2015, Stress Corrosion Cracking (SCC) Direct Assessment Methodology, Revised March 14, 2015, (NACE SP0204); IBR approved for § 195.588(c).

(4) ANSI/NACE SP0502-2010, Pipeline External Corrosion Direct Assessment Methodology, revised June 24, 2010, (NACE SP0502); IBR approved for § 195.588(b).

(f) ASTM International, 100 Barr Harbor Drive, P.O. Box C700, West Conshohocken, PA 19428; phone: (610) 832-9585; website: www.astm.org/.

(1) ASTM A53/A53M-22, Standard Specification for Pipe, Steel, Black and Hot-Dipped, Zinc-Coated, Welded and Seamless, approved July 1, 2022, (ASTM A53/A53M); IBR approved for § 195.106(e).

(2) ASTM A106/A106M-19A, Standard Specification for Seamless Carbon Steel Pipe for High-Temperature Service, approved November 1, 2019, (ASTM A106/A106M); IBR approved for § 195.106(e).

(3) ASTM A333/A333M-18, Standard Specification for Seamless and Welded Steel Pipe for Low-Temperature Service and Other Applications with Required Notch Toughness, approved November 1, 2018, (ASTM A333/A333M); IBR approved for § 195.106(e).

(4) ASTM A381/A381M-23, Standard Specification for Metal-Arc-Welded Carbon or High-Strength Low-alloy Steel Pipe for Use With High-Pressure Transmission Systems, approved November 1, 2023, (ASTM A381/A381M); IBR approved for § 195.106(e).

(5) ASTM A671/A671M-20, Standard Specification for Electric-Fusion-Welded Steel Pipe for Atmospheric and Lower Temperatures, approved March 1, 2020, (ASTM A671/A671M); IBR approved for § 195.106(e).

(6) ASTM A672/A672M-19, Standard Specification for Electric-Fusion-Welded Steel Pipe for High-Pressure Service at Moderate Temperatures, approved November 1, 2019, (ASTM A672/672M); IBR approved for § 195.106(e).

(7) ASTM A691/A691M-19, Standard Specification for Carbon and Alloy Steel Pipe, Electric-Fusion-Welded for High-Pressure Service at High Temperatures, approved November 1, 2019, (ASTM A691/A691M); IBR approved for § 195.106(e).

(g) Manufacturers Standardization Society of the Valve and Fittings Industry, Inc. (MSS), 127 Park St. NE, Vienna, VA 22180; phone: (703) 281-6613; website: www.mss-hq.org/.

(1) MSS SP-75-2019 Standard Practice, High-Strength, Wrought, Butt-Welding Fittings, published December 2019, (MSS SP-75); IBR approved for § 195.118(a).

(2) [Reserved]

(h) National Fire Protection Association (NFPA), 1 Batterymarch Park, Quincy, MA 02169; phone: (800) 344-3555; website: www.nfpa.org/.

(1) NFPA 30, Flammable and Combustible Liquids Code, 2021 Edition, effective August 31, 2020; IBR approved for § 195.264(b).

(2) [Reserved]

(i) Pipeline Research Council International, Inc. (PRCI), 15059 Conference Center Drive Suite 130, Chantilly, VA 20151; phone: (703) 205-1600; website: www.prci.org.

(1) AGA Pipeline Research Committee, Project PR-3-805, A Modified Criterion for Evaluating the Remaining Strength of Corroded Pipe, December 22, 1989, (PR-3-805 (RSTRENG)); IBR approved for §§ 195.452(h); 195.587; 195.588(c).

(2) [Reserved]

§ 195.54 [Amended]

20. Amend § 195.54 by removing the text “on DOT Form 7000-1” wherever it appears and adding, in its place, the text “on DOT Form 7000-1 or 7000-2, whichever is applicable”.

21. Amend § 195.110 by revising paragraph (a) to read as follows:

§ 195.110 External loads.

(a) Anticipated external loads (e.g., earthquakes, vibration, thermal expansion, and contraction) must be provided for in a pipeline system's design. Sections 401, 402, 403.3, and 403.9 of ASME B31.4 (incorporated by reference, see § 195.3) must be followed to provide for expansion and flexibility.

* * * * *

§ 195.264 [Amended]

22. In § 195.264, amend paragraph (b)(1) introductory text by removing the text “NFPA-30” and adding, in its place, the text “NFPA 30”.

23. In § 195.307:

a. Amend paragraph (a) by removing the text “12 F” and adding, in its place, the text “12F”;

b. Amend paragraph (d) by removing the text “12 C” and adding, in its place, the text “12C”; and

c. Revise paragraph (e).

The revision reads as follows:

§ 195.307 Pressure testing aboveground breakout tanks.

* * * * *

(e) For aboveground breakout tanks built to API Std 2510 (incorporated by reference elsewhere in this part, see § 195.3) and first placed in service after October 2, 2000, pressure testing must be performed in accordance with ASME BPVC, Section VIII, Division 1 and ASME BPVC, Section VIII, Division 2 (both incorporated by reference, see § 195.3).

24. Revise § 195.591 to read as follows:

§ 195.591 In-Line inspection of pipelines.

When conducting in-line inspection of pipelines required by this part, each operator must comply with the requirements and recommendations of API Std 1163, ASNT ILI-PQ, and NACE SP0102 (all incorporated by reference, see § 195.3). An in-line inspection may also be conducted using tethered or remote-control tools provided they generally comply with those sections of NACE SP0102 that are applicable.

Issued in Washington, DC, on August 18, 2025, under authority delegated in 49 CFR 1.97.
Benjamin D. Kochman,
Deputy Administrator.

[FR Doc. 2025-15988 Filed 8-20-25; 8:45 am]

BILLING CODE 4910-60-P